DEPARTMENT OF DEFENSE

Office of the Secretary

[Docket ID: DoD-2022-OS-0117]

Personnel Demonstration Project at the Army Futures Command Science and Technology Reinvention Laboratory (STRL)

AGENCY: Under Secretary of Defense for Research and Engineering (USD(R&E)), Department of Defense (DoD).

ACTION: Personnel demonstration project notice.

SUMMARY: This Federal Register Notice (FRN) serves as notice of the adoption of STRL personnel demonstration project flexibilities by an STRL comprised of certain organizations within the U.S. Army Futures Command (AFC), known collectively as the AFC STRL. The organizations comprising the AFC STRL are the U.S. Army Futures Command Headquarters and Headquarters Components (AFC HHC); the Futures and Concepts Center (FCC); Cross Functional Teams (CFTs); The Research and Analysis Center (TRAC); the Combat Capabilities Development Command (CCDC) Headquarters (also known as DEVCOM Headquarters); and the DEVCOM Analysis Center (DAC). The AFC STRL will adopt with some modifications, personnel demonstration project flexibilities implemented by the Combat Capabilities Development Command (CCDC) Army Research Laboratory (ARL); CCDC Command, Control, Communications, Computers, Cyber, Intelligence, Surveillance, and Reconnaissance Center (C5ISR); the Army Research Institute for the Behavioral and Social Sciences (ARI); the CCDC Armament Center (AC); the Technical Center (TC), U.S. Army Space and Missile Defense Command (USASMDC); and the Joint Warfare Analysis Center (JWAC). Most flexibilities and administrative procedures are adopted without changes. However, modifications were made when necessary to address specific management and workforce needs. In addition, changes were made based on current law, best practices, and administrative guidance.

DATES: Implementation of this demonstration project will begin in no earlier than February 22, 2024.

FOR FURTHER INFORMATION CONTACT:

• AFC STRL: Marlowe Richmond, (571) 588-1219, marlowe.richmond.civ@army.mil.

• Office of Under Secretary of Defense (Research and Engineering), Defense Research Enterprise Office: Dr. James B. Petro, (571) 286-6265, James.B.Petro.civ@mail.mil.

SUPPLEMENTARY INFORMATION: As authorized by section 4121 of title 10, United States Code (U.S.C.), the Secretary of Defense may carry out personnel demonstration projects at DoD laboratories designated as DoD STRLs. On May 13, 2021, certain elements of AFC were designated as a single STRL, known as the AFC STRL. The AFC STRL will administer a single personnel demonstration project, hereinafter referred to as the “Modernization Personnel Demonstration Project” or “Mod Demo,” for these AFC organizations: the AFC Headquarters and Headquarters Components, the Futures and Concepts Center, Cross-Functional Teams (CFTs), the Research and Analysis Center, and the U.S. Army Combat Capabilities Development Command (DEVCOM) Headquarters offices. In addition, the DEVCOM Data and Analysis Center (DAC), which is partially aligned with the Army Research Laboratory STRL, will be realigned, in its entirety, as part of the AFC STRL. The remaining organizations within AFC will continue to operate as independent STRLs under their own personnel demonstration project authorities.

Through the USD(R&E), the Secretary exercises the authorities of the Director, Office of Personnel Management (OPM), under 5 U.S.C. 4703 to conduct personnel demonstration projects at DoD laboratories designated as STRLs. All STRLs authorized pursuant to 10 U.S.C. 4121 may use the provisions described in this FRN, when implementing these flexibilities as part of an approved personnel demonstration project plan published in an FRN and after fulfilling any collective bargaining obligations. Each STRL will establish internal operating procedures (IOPs) as appropriate.

1. Background

Many studies have been conducted since 1966 on the workforce quality of the laboratories and associated personnel. Most of the studies recommended improvements in civilian personnel policy, organization, and management. Pursuant to the authority provided in 10 U.S.C. 4121, several DoD STRL personnel demonstration projects have been implemented. The demonstration projects are “generally similar in nature” to the Department of Navy's China Lake Personnel Demonstration Project. The terminology, “generally similar in nature,” does not imply an emulation of various features, but, rather, it implies a similar opportunity and authority to develop personnel flexibilities that significantly increase the decision authority of laboratory commanders and/or directors.

With the assistance of other DoD STRLs, including the independent STRLs within AFC, and experts from across DoD, the AFC STRL operational planning team conducted a thorough review of STRL personnel practices, laws, regulations, and guidance to identify potential flexibilities that would allow the AFC STRL to create a contemporary, flexible personnel management system to attract, motivate, train, and retain a top-performing science, technology, and modernization workforce. In addition to existing flexibilities available to all DoD STRL, new flexibilities and modifications are being proposed for MoD Demo following study and analysis by the AFC STRL operational planning team.

Although the organizations comprising the AFC STRL are components of the umbrella AFC organization that is responsible for modernizing the Army, the varied composition of the AFC STRL modernization workforce, including headquarters personnel, analysts, integrators, technology and concept creators, and traditional Science & Technology (S&T) innovators, requires significant personnel management flexibility. As a result, the proposed AFC STRL Mod Demo plan incorporates multiple IOPs, decentralized lines of authority, and new flexibilities adapted from other STRL demonstration projects.

The AFC STRL Mod Demo plan includes:

(1) Changes to appointment authorities, hiring rules, and qualification standards;

(2) Changes to pay setting rules and regulations;

(3) Pay banding and simplified job classification;

(4) Science, Technology, Engineering, and Mathematics (STEM) Student Employment Program (SSEP) and Accelerated Intern Compensation;

(5) Sabbaticals;

(6) Substitution for the Defense Performance Management and Appraisal Program (DPMAP);

(7) Academic degree, certificate, and critical skills training;

(8) Senior Scientific Technical Manager (SSTM) positions;

(9) Changes to workforce shaping rules, such as Reduction-in-Force (RIF), Voluntary Early Retirement Authority (VERA), and Voluntary Separation Incentive Program (VSIP);

(10) Voluntary Emeritus and Expert Program;

(11) Improved incentives; and

(12) Extended Probationary Periods.

Many aspects of a demonstration project are experimental. Modifications may be made from time to time as experience is gained, results analyzed, and conclusions reached on how the system is working, in accordance with the provisions of Department of Defense Instruction (DoDI) 3201.05, “Management of Science and Technology Reinvention Laboratory Personnel Demonstration Projects” (available at https://www.esd.whs.mil/Portals/54/Documents/DD/issuances/dodi/320105p.PDF?ver=e_ePssSOULpXxcH2PcRhwA%3d%3d).

2. Overview

The AFC STRL will adopt flexibilities implemented by the following STRL Personnel Demonstration Project plans: CCDC AC, 76 FR 3744, January 20, 2011; ARI, 85 FR 76038, November 27, 2020; CCDC ARL, 63 FR 10680, March 4, 1998; CCDC C5ISR, 66 FR 54872, October 30, 2001; JWAC, 85 FR 29414, May 15, 2020; and USASMDC-TC, 85 FR 3339, January 21, 2020.

Adoption of STRL personnel demonstration project flexibilities will enable the AFC STRL to achieve the best workforce for its modernization mission, adjust the workforce for change, improve workforce quality, and allow the AFC STRL to acquire and retain an enthusiastic, innovative, and highly educated and trained workforce for Army modernization. The purpose of the project is to demonstrate that the effectiveness of DoD organizations can be enhanced by allowing greater managerial control over personnel functions and, at the same time, expand the opportunities available to employees through a more responsive and flexible personnel system. Additionally, because AFC STRL component organizations are geographically dispersed to highly competitive recruitment areas, implementation of the AFC STRL Mod Demo is essential to competitively hire and retain a highly qualified workforce.

3. Access to Flexibilities of Other STRLs

Flexibilities published in this FRN will be available for use by DoD laboratories designated as STRLs pursuant to 10 U.S.C. 4121, including any newly designated STRLs, if they wish to adopt them in accordance with DoDI 3201.05, and after the fulfillment of any collective bargaining obligations.

4. Summary of Comments

Sixty-four (64) commenters provided comments and questions regarding the AFC STRL Personnel Demonstration Project, Federal Register, 87 FR 62801, dated October 17, 2022. The following is a summary of these written questions by topical area and a response to each.

A. Background

Comment: Some commenters asked for a copy of the AFC STRL Mod Demo plan and asked if the plan would be disseminated to the workforce for comment, specifically related to the workforce shaping rules.

Response: Changes to section II.F. of the Notice were made to clarify that, before implementation of the AFC STRL Mod Demo, the IOPs will be distributed to the workforce for information only. Details of the workforce reshaping rules will be included in the IOPs.

Comment: Several commenters suggested that the rationale for Mod Demo, to enhance managerial flexibilities to “attract, motivate, train, and retain a top-performing science, technology, and modernization workforce,” is boilerplate and not applicable to the AFC STRL.

Response: No changes to the Notice were made based on these comments. The introductory material explains why a one-size-fits-all government-wide system is no longer relevant for AFC and describes several new flexibilities designed to streamline and improve overall personnel management in AFC and facilitate efforts to compete with the private sector. AFC conducted a thorough review of the personnel practices adopted by STRLs and available flexibilities to identify those that would address AFC management and workforce needs. The resulting Mod Demo includes personnel flexibilities that optimize the ability to hire, retain, train, and engage a high-performing workforce while retaining many of the existing practices that make working for the Federal Government desirable. The proposed flexibilities, or innovative personnel practices, can be found in section III.

B. Purpose

Comment: A commenter recommended changing “projects” to “project” in the first sentence.

Response: This change has been made.

C. Problems With the Present System

Comment: Several commenters questioned DoD's conclusion that the current “GS system's approach to career flexibility, progression, and changing work assignments is rigid, slow and designed for industrial-era employees who entered Civil Service and remained until retirement.” The commenters stated that the current DPMAP system works well and that any problems were due to leaders failing to properly lead their employees. Furthermore, commenters asked what was meant by innovative personnel practices and what the proposed flexibilities were.

Response: No changes to the Notice were made based on these comments. For STRLs such as AFC, which is tasked with ensuring the Army and its Soldiers remain at the forefront of technological innovation and warfighting ability, the General Schedule (GS) personnel system and DPMAP do not provide quick or easy ways of responding to changing work requirements. Unlike the GS system, which has 15 grades with 10 levels each and involves individual position descriptions which must be classified by complex Title 5 classification standards, the AFC STRL Mod Demo will implement a pay banding system and a pay for performance system designed to provide an effective, efficient, and flexible method for assessing, compensating, and managing a transformation-focused workforce. Employees will continue to have an opportunity to receive a base pay increase based on their level of performance during the appraisal year. Importantly, changes to the classification and pay system will enable management to create new types of jobs that respond to the fast-changing world of modernization work in which AFC STRL is engaged. The speed with which new science, technology, and engineering concepts emerge demands the ability to quickly re-shape work assignments, re-skill and up-skill employees, and maximize the potential of the existing workforce. Unlike the rigid rules of the GS system which limit internal reassignments, promotions, and training, the AFC STRL Mod Demo provides flexibility to train and assign personnel as needed to respond to the rapid changes in the modernization mission. In addition, AFC STRL Mod Demo enables and enhances innovative ways to attract, recruit, and retain current and future employees through better pay and hiring flexibilities. In addition, AFC STRL Mod Demo will provide supervisor and leadership training to develop capabilities and skills to better engage employees.

D. Changes Required/Expected Benefits

Comment: Commenters questioned whether STRL personnel demonstration projects increase employee satisfaction and asked for surveys or other data to support this conclusion. Some commenters indicated that current and former alternate personnel systems adopted by DoD, such as the National Security Personnel System (NSPS) and the Acquisition Demonstration, were not preferable to the General Schedule (GS) system. One commenter asked whether AFC and the Army studied other agencies that are succeeding and if any best practices were used to improve organizational effectiveness and employee satisfaction.

Response: No changes to the Notice were made based on these comments. Although surveys were not conducted with the AFC workforce to determine if the employees wanted a pay banded system or to determine if these changes would produce increased workforce satisfaction or engagement, a recent survey of the STRL demonstration project workforce showed 86% of respondents were either neutral, satisfied or very satisfied with their jobs and 89% were satisfied with management. (Science and Technology Reinvention Laboratory (STRL) Demonstration Project Summary of Evaluation Results for Fiscal Year Ending in 2019, Office of the Under Secretary of Defense—Research & Engineering (USD(R&E)) Office of Labs and Personnel (L&PO), October 2021). Early OPM evaluation reports indicate that acceptance of demonstration projects increases as time goes on, with some STRLs seeing acceptance increasing 40-50% in approximately eight years. Trust and confidence in supervisors also increased under several demonstration projects, as well as job satisfaction. (A Status Report on Personnel Demonstration Projects in the Federal Government, U.S. Office of Personnel Management, December 2006). Due to the mission of Army Futures Command, it is imperative to transform recruitment, hiring, and retention programs. The NSPS was a centrally operated personnel system that did not permit the flexibilities, direct hiring authorities, and focus on a highly technical workforce that are the signature elements of the STRL demonstration projects. NSPS was particularly criticized for its inflexibility and inability to change with lessons learned, whereas STRL demonstration projects provide flexibility and local authority to apply lessons learned to improve functionality. STRL demonstration projects are adaptable and responsive to workforce feedback. AFC STRL Mod Demo pay pools will be locally managed to facilitate equity within similar workforce elements. Importantly, AFC STRL Mod Demo will be evaluated within five years of implementation in accordance with 5 U.S.C. chapter 47. Data will be collected internally and externally based on standards and guidelines developed by the USD(R&E). Furthermore, AFC STRL Mod Demo will collect climate survey data throughout the life of the project. Results of evaluation data will be provided to the USD(R&E) and the AFC STRL Mod Demo workforce, as appropriate. Each year the AFC STRL Personnel Management Board (PMB) will review the STRL policies to determine if changes are needed. Unions or a neutral third party will be informed based on bargaining unit obligations. AFC is looking to become a workplace of choice and to adopt best practices by agencies such as the National Aeronautics and Space Agency, which is consistently recognized as one of the best places to work in the Federal government by the Partnership for Public Service.

Comment: Commenters expressed concern that the goals of the program do not have a baseline and that it is unclear how AFC STRL Mod Demo will demonstrate that a human resource system tailored to the mission and needs of the modernization workforce will facilitate more effective, efficient, and adaptable organizational systems. Commenters suggested that the stated STRL goal of increased permeability between the civil service and private industry will cause employees to lose privileges and rights in comparison to other Federal employees.

Response: No changes to the Notice were made based on these comments. AFC STRL Mod Demo will be evaluated based on standards and guidelines developed by the USD(R&E) and AFC STRL Mod Demo, including any applicable baseline data requirements. As stated in this Notice, “All personnel laws, regulations, and guidelines not waived by this plan will remain in effect. Basic employee rights will be safeguarded, and Merit System Principles will be maintained.” Increasing permeability between the civil service and private industry is expected to have positive effects on employees rather than causing them to lose privileges. STRL flexibilities provide opportunities that attract and retain critical talent. The AFC STRL Mod Demo is designed to reflect different organizational mission requirements along with career progression for Science & Engineering (S&E) and Business and Technical (B&T) career paths and has been successfully implemented in other STRL demonstration projects.

E. Participating Organizations

Comment: Some commenters identified that the names of the Software Factory (SWF) and Network (NW CFT) should be changed to their current designations. Additionally, commenters recommended to delete “a” from the first sentence of the second paragraph.

Response: These changes have been made. The correct names and acronyms are Army Software Factory (ASWF) and Network Command Control Communications Integration (NC3I).

F. Personnel Management Board (PMB)

Comment: A commenter asked if the demographics of the PMB would be known to the workforce. The commenter was concerned about diversity on the PMB and recommended the inclusion of GS-13 and GS-14 representatives from the career fields represented within AFC STRL Mod Demo.

Response: No changes to the Notice were made based on these comments. PMB members will be appointed in accordance with this FRN and IOPs will include measures for ensuring a variety of perspectives are represented. The names of PMB members will be provided to the workforce.

Comment: Commenters recommended administrative changes to clarify position titles and references.

Response: The changes have been made.

G. Organizational Structure and Design

Comment: Commenters expressed various concerns about whether funding was available to implement AFC Mod Demo. More specifically, commenters inquired whether: (1) Employees will receive bonuses in fiscal year (FY) 23; (2) funds from the current FY23 bonus pool will be used to convert the workforce; (3) the STRL was included in the Program Objective Memorandum (POM); (4) unforecasted requirements take priority; (5) inflation impacted the budget; (6) civilian pay and benefits increases are impacted; (7) Army operating budgets and the number of civilian positions may be cut; (8) has funding to pay for step increase buy-ins, software costs, awards, hiring incentives; (9) the funding source has been identified for DA centrally funded interns; and (10) AFC STRL Mod Demo is revenue neutral. Lastly, commenters asked how AFC STRL Mod Demo makes sense based on the type of funding available to pay civilian employees.

Response: No changes to the Notice were made based on these comments. Implementation of AFC Mod Demo will not change the types of funding available for civilian pay, including locality pay, or the average rates used by the Army Budget Office to allocate this funding based on the number of civilian positions. Annual performance awards and other monetary incentives for civilian employees will continue to be separately planned and executed as part of AFC's command budgeting process.

H. Pay Banding

Comment: Some commenters expressed concerns with the AFC STRL Mod Demo organizations use of control points. They inquired whether they will be published to the workforce prior to implementation. They also inquired whether they were needed, with one commenter suggesting that they will reduce the flexibility of the AFC STRL Mod Demo and cause it to resemble the General Schedule system.

Response: Section III.B.3 was changed to address these comments. Although the AFC Mod Demo will use a pay banding structure, not all positions have duties and responsibilities that warrant unconstrained salary progression through the entire range of the pay band. Control points within a pay band are a tool for managing organization workforce structure and pay to reward performance while ensuring employees are appropriately compensated. The following language has been added to section III.B.3: “Control points may be used as a compensation strategy when management determines the duties and responsibilities of a position do not warrant unconstrained salary progression through the entire range of the pay band.”

Comment: A commenter stated that the 2210 occupational series under S&E was unclear and recommended clarifying language.

Response: The following language has been added to section III.B.1: “This career path includes certain Information Technology (IT) (occupational series 2210) positions. It includes such positions that contribute to highly technical and/or scientific programs that reside in the research, development, or engineering domains, using offensive, and defensive cyber competencies, and directly support science and technology initiatives contributing to the development of cyber resilient Army transformation and readiness technologies. All other IT specialist positions will be included in the B&T career path.”

I. Classification

Comment: A commenter asked if the organizations that fall under the AFC STRL Mod Demo will have classification authority or if the authority will be at the AFC HQ level.

Response: No changes to the Notice were made based on these comments. AFC STRL Mod Demo organizations will have classification authority.

Comment: Commenters asked if, upon conversion or later in time, an employee's career path or occupational series may be changed even if the employee's qualification is appropriate to the employee's current job description and qualification requirement.

Response: No changes to the Notice were made based on these comments. Career Path (or pay plan) refers to Science & Engineering (DB), Business & Technical (DE), and Support (DK) instead of General Schedule (GS). As indicated in section IV.A, upon conversion, employees will be placed in a career path (i.e., DB, DE, DK) based upon their occupational series, with no change to occupational series. Following conversion, employees who are qualified for vacant positions in another occupational series or career path may compete for the vacancy.

J. Pay-for-Performance Management System (PFP)

Comment: A commenter asked if the rating period would change under AFC STRL Mod Demo.

Response: No changes to the Notice were made based on these comments. The rating period will be determined by each AFC STRL Mod Demo organization, and it will be published in the IOPs.

Comment: Some commenters expressed concerns that the AFC STRL Mod Demo is using a minimum of four elements for performance instead of three elements like other demonstration projects and asked if benchmark standards will be developed and published. Commenters also requested AFC provide detailed hands-on training concerning PFP and specifically on the performance elements.

Response: No changes to the Notice were made based on these comments. The performance element provisions in this Notice were developed following examination of existing STRL Lab Demo Performance Management Systems. Eight performance elements, with a required four minimum elements, will enable organizations within the AFC STRL Mod Demo to select the appropriate performance criteria to meet their own individual, organizational needs, and mission requirements. Performance elements may evolve over time to ensure individual and organizational success. The PMB will review the performance elements annually and make any necessary changes prior to the start of a new rating period. Additionally, the performance management system's use of benchmark performance criteria establishes a common set of standards for evaluating performance and assigning ratings. The benchmark performance criteria will be published annually and whenever changes are made. Finally, the use of a pay pool panel and reconciliation process provides additional checks and balances to the evaluation process. Detailed training on all STRL programs and flexibilities will be provided to the workforce prior to conversion. Supervisors will also receive training on the performance management system and rating processes to support an accurate evaluation of performance.

Comment: One commenter recommended that the sentence, “AFC STRL organizations will provide written notice to the workforce at the start of the rating cycle concerning the basis of the share assignment,” be moved from III.D.8 Option A to the first paragraph in section III.D.8 and before Figure 3, because it applies to both Option A and B.

Response: This change has been made.

Comment: Commenters asked how factors will be used to determine if the employee will get a lower amount of money than what was received the previous year.

Response: No changes to the Notice were made based on these comments. Specific guidance addressing pay pool requirements and factors used to determine shares will be published annually and included in organization's respective IOPs.

Comment: A commenter recommended adding additional leadership wording to the Supervisor/Equal Employment Opportunity (EEO) performance element.

Response: Section III.D.2.8 was revised to add “; and (7) Influences, motivates, and challenges others through adaptive leadership; takes charge of assigned effort(s); overcomes challenges to success; resolves personal and professional conflicts; and looks for opportunities to assist others to achieve success.”

Comment: A commenter recommended that the Awards section include added wording indicating employees cannot be compensated for the same contribution twice (e.g., performance and incentive).

Response: No changes to the Notice were made based on these comments. This level of detail is more appropriate for AFC STRL Mod Demo organization IOPs.

Comment: Commenters asked why AFC STRL Mod Demo is concerned about information exchange with industry and why that effects Government employee ratings.

Response: No changes to the Notice were made based on these comments. The AFC Mod Demo organizations comprise an STRL, which is a research and development (R&D) laboratory as defined in DoDI 3201.05. It is staffed with a scientific and engineering workforce principally involved in performing exploratory development or research work and conducts a substantial portion of R&D activities in-house using government personnel. It provides Army transformation solutions (integrated concepts, organizational designs, and technologies) in order to allow the Joint Force, employing Army capabilities, to achieve overmatch in the future operation environment. The STRL mission requires information exchange through collaboration with industry and academic partners to support the delivery of modernization solutions so the Army can make sure Soldiers have what they need, before they need it, to protect tomorrow. As a transformation and modernization organization, research and collaboration with industry and academic partners directly impacts an employee's ability to meet performance objectives and goals. This influences an employee's performance rating and the ability of the command to meet mission requirements.

Comment: Commenters stated that implementation of Mod Demo should be delayed pending completion of a Congressionally required study and further consideration by the Department and Congress.

Response: No changes to the Notice were made based on these comments. The Defense Business Board talent management study was completed and its recommendations provided to the Department for consideration.

Comment: Commenters asked about eligibility for raises based on tenure instead of performance, expressed concerns that the inability to receive step increases based on longevity would place employees at a disadvantage when compared to other employees in similar job series within the Federal Government and affect retirement calculations based on highest income earned, and suggested current GS employees be grandfathered for pay increases based on tenure. Commenters also questioned how employees would benefit without additional funds to incentivize performance and requested measurable baselines for the goals of the project and mechanisms for assessing contribution to ensure funds are divided equitably.

Response: No changes to the Notice were made based on these comments. AFC Mod Demo implements a PFP system that provides an effective, efficient, and flexible method for assessing, compensating, and managing the workforce. Employees will continue to receive the general pay increase in most circumstances. Moreover, employees have the opportunity to receive a base pay increase, a bonus, or a combination based on their level of performance during the appraisal year. Funds that were previously used for GS step increases, quality step increases, and promotions will be used to fund the performance increases. The goals of the AFC STRL Mod Demo are based on years of demonstration project experiences in other organizations as reported in, “A Status Report on Personnel Demonstration Projects in the Federal Government”, U.S. Office of Personnel Management, December 2006, and “Alternative Personnel Systems in Practice and a Guide to the Future,” U.S. Office of Personnel Management, October 2005. The evaluation model, as described in this Notice, will identify elements critical to an evaluation of the effectiveness of the AFC STRL Mod Demo flexibilities.

Comment: Some commenters asked about the size of pay pools given that some organizations may have only 20 employees while others have hundreds. They expressed concern about the range of grades and salaries in the pay pools. Additionally, a commenter questioned having different pay pools for supervisors and non-supervisors. Lastly, commenters asked if all of AFC STRL Mod Demo organizations will be sharing pay pools and funding.

Response: No changes have been made to the Notice in response to these comments. Pay pools will be established in accordance with the IOP of each AFC STRL Mod Demo organization and the size may vary depending on the organization. AFC STRL Mod Demo organizations will thoroughly evaluate options and may use modeling, mock payout exercises, and other means of analysis to achieve optimal pay pool composition.

Comment: Some commenters asked about pay pool targets/caps that will limit how organizations can increase employee pay and asked if it will be similar to current awards. Additionally, commenters asked how conversion will work with Information Technology 2210 bonuses and if an employee is at the top of a pay band and currently receiving a 2210 bonus if it will place the employee in the next pay band.

Response: No changes to the Notice were made based on these comments. As stated in section III.D.7, annual pay pool limits for base pay increases and bonuses, also referred to as payout factors, will be established by the AFC STRL Mod Demo organizations. The funds used for base pay increases are those that would have been available from GS within-grade increases, quality step increases, and promotions. This amount will be defined based on historical data and set at no less than two percent of total adjusted base pay and no more than the maximum set by the AFC STRL Mod Demo organization. Award amount will be defined based on historical data and set at no less than one percent of total adjusted base pay and no more than the maximum set by the AFC STRL Mod Demo Commanding General (CG). AFC STRL organizations may continue to make full use of recruitment, retention, and relocation payments as currently provided for by OPM. This includes OPM hiring and pay flexibilities such as monetary incentives for targeted occupational specialties. Conversion guidance for all series will be in accordance with section IV of this FRN.

Comment: Commenters expressed concerns about supervisor responsibilities to notify employees of unsatisfactory performance and opportunities for such employees to improve performance.

Response: No changes to the Notice were made based on these comments. Employees and supervisors are expected to actively participate in discussions regarding expectations and potential obstacles to meeting employee performance goals. As stated in section III.D.5, “Whenever a supervisor recognizes an employee's performance on one or more performance elements is unacceptable, the supervisor should immediately inform the employee. Efforts will be made to identify the possible reasons for the unacceptable performance.” Further, if an employee continues to perform at an unacceptable level or has received a Level 1 Rating of Record, the employee will be placed on a formal performance improvement plan (PIP). The supervisor will identify the actions that need to be corrected or improved, outline required time frames (no less than 30 days) to demonstrate such improvement and provide the employee with any available assistance as appropriate. Progress will be monitored during the PIP, and all counseling sessions will be documented.

Comment: A commenter asked what the equivalency was between the current rating system in MyBiz (e.g., 1, 3, 5) and the new system.

Response: No changes to the Notice were made based on these comments. As stated in section III.D.8, AFC STRL Mod Demo will follow pattern H, as described in 5 CFR 430.208(d), which provides for 5 summary levels. An employee who receives a level 3 rating is considered to have performed successfully during the rating period.

Comment: A commenter asked whether an employee who gets a satisfactory level of evaluation may be placed in a lower pay band within the same career path or placed into a pay band in a different career path with a lower maximum base pay.

Response: No changes to the Notice were made based on these comments. Employees with a satisfactory rating may be voluntarily placed in a lower pay band or another career path with lower pay if they volunteer or request the change. Employees may be involuntarily placed in a lower pay band or another career path with lower pay for cause (i.e., performance or conduct) or for reasons other than cause (e.g., erosion of duties, reclassification of duties to a lower pay band, placement actions resulting from RIF procedures). Involuntary actions will be executed using the applicable adverse action procedures in 5 U.S.C. chapter 43 or chapter 75.

Comment: Commenters criticized the pay banding system, suggesting it is designed by lawyers and human resource-oriented persons who focus too much on “measurement” rather than “motivation” and “leadership.” Additionally, commenters suggested that collaborative coaching styles of leadership are better at motivating people than formalized “measurement” systems which can serve as a demotivating factor.

Response: No changes to the Notice were made based on these comments. The purpose of the project is to demonstrate that the effectiveness of DoD organizations can be enhanced by allowing greater managerial control over personnel functions and, at the same time, expand the opportunities available to employees through a more responsive and flexible personnel system. Additionally, the pay-for-performance system provides an effective, efficient, and flexible method for assessing, compensating, and managing the AFC STRL Mod Demo workforce. It is essential for the development of a high performing workforce and to provide management at the lowest practical level, the authority, control, and flexibility to achieve a quality and collaborative relationship with employees to ensure the organization's mission requirements are met. Pay-for-performance allows for more employee involvement in the assessment process, strives to increase communication between supervisor and employee, promotes a clear accountability of performance, facilitates employee career progression, and provides an understandable and rational basis for salary changes by linking pay and performance.

Comment: Commenters were concerned with the awards percentage in this document being below the percentage that has been mandated by OPM in the past two years and asked if OPM will accept a lower percentage for AFC STRL Mod Demo. Additionally, commenters asked whether the lower percentage is an effort to divert money to cover the base pay amounts. Furthermore, commenters asked about the source of funding for Extraordinary Achievement Rewards and whether they were part of the POM used to plan future funding. Lastly, commenters asked how budget management will work in AFC STRL Mod Demo.

Response: No changes to the Notice were made based on these comments. AFC STRL Mod Demo allows the STRL Director to establish limits on awards administered by the pay pool as part of the civilian pay budget. Extraordinary Achievement and other approved incentives will be administered separately as part of the command's overall annual budget.

K. Hiring and Appointment Authorities

Comment: Commenters questioned how an extended probationary period retains quality personnel and suggested it goes against progressive management practices for leading, motivating, recruiting, and retaining a quality workforce.

Response: No changes to the Notice were made based on these comments. Authority to adopt an extended probationary period is a flexibility that enables supervisors to have adequate time to fully evaluate an employee's ability to complete cycles of work and to fully assess an employee's contribution and conduct.

L. Internal Placement

Comment: Commenters recommended both competitive and non-competitive details; the option to extend temporary promotions be limited to one additional year; and the word “affected” be changed to “effected” in the fifth sentence.

Response: The third sentence in section III.G.5, Details and Expanded Temporary Promotions, was revised to address these comments.

Comment: Commenters asked how a promotion opportunity will be identified and what conditions and criteria are applicable when an employee is transferred to a lower pay band.

Response: No changes to the Notice were made based on these comments. Policies related to promotions and transfers to lower pay bands are documented in Section III.G.1 of this Notice. Additional processes and procedures will be documented in the IOP.

M. Pay Setting

Comment: A commenter stated that proposed Section III.H.7.a., under Supervisory and Team Leader Pay Adjustments, is confusing.

Response: Section III.H.7. was revised to remove proposed paragraph a. and relabel paragraphs b. and c. to a. and b.

Comment: Commenters stated that the last sentence in Section III.H.7.b., Supervisory and Team Leader Pay Adjustments, that describes how pay will be set for supervisory/team leader positions upon conversion into the project should be removed because employees will get a within grade increase (WGI) buy-in, as long as the employee is not at a step 10, or receiving a retained rate, on the day of implementation. Additionally, commenters asked what the word “adjustment” meant when referring to WGI equity.

Response: Section III.H.7.b, Supervisory and Team Leader Pay Adjustment, has been revised to remove, “After conversion into the demonstration project, a career employee selected for a supervisory/team leader position may be considered for a pay adjustment into the same or substantially similar position, supervisors/team leaders will be converted at their existing base rate of pay and will not be eligible for a base pay adjustment.” The word, “adjustment,” refers to increases in base pay upon conversion into Mod Demo, as described in Section IV.A.

Comment: Commenters asked about supplemental pay rates and whether an AFC STRL Mod Demo organization can decrease an employee's compensation.

Response: No changes to the Notice were made based on these comments. The supplemental pay flexibility permits AFC STRL Mod Demo to independently establish supplemental rates based on multiple factors, including rates offered by non-federal organizations and remoteness of the area, to help attract, recruit, and retain a high caliber workforce. AFC STRL Mod Demo organizations have an ongoing responsibility to evaluate the need for continuing payment of the supplemental pay and shall terminate or reduce the amount if conditions warrant. Conditions to be considered are: changes in labor-market factors; the need for the services or skills of the employee has reduced to a level that makes it unnecessary to continue payment at the current level; or budgetary considerations make it difficult to continue payment at the current level. Additional guidance will be documented in the AFC STRL Mod Demo organization IOPs.

N. Voluntary Early Retirement (VERA) and Voluntary Separation Incentive Pay (VSIP)

Comment: A commenter expressed concerns with Voluntary Early Retirement Authority (VERA) and Voluntary Separation Incentive Pay (VSIP) and how the use of “and” in this section indicates the use of VERA and VSIP together and not separately. The commenter believes the section should make it clear that these authorities may be used independently.

Response: Section III.J, Voluntary Early Retirement Authority and Voluntary Separation Incentives Pay, has been revised to read, “VERA and VSIP will be administered as described in this Notice. Both authorities are authorized and may be used together or separately.

O. Conversion

Comment: Commenters recommended changes to placement of some GS-14 employees into band III upon conversion. Additionally, commenters asked if the same rules for GS-14 employees apply to GS-13 or GS-12 employees who fall within Pay Band III.

Response: Section IV.A, Conversion into the Demonstration Project, has been revised to read, “The placement of GS-14 employees will be in Pay Band IV during initial conversion into AFC STRL Mod Demo. Additional guidance will be included in Mod Demo IOPs, and conversion operations will be overseen by the PMB.” This language clarifies that employees whose grade falls within two pay bands (i.e., GS-14) will be placed in the higher pay band during conversion. Such guidance is not applicable to GS-13 and GS-12 grades which fall within Pay Band III.

Comment: A commenter asked if current employees hired under the Highly Qualified Expert authority will be converted to AFC STRL Mod Demo.

Response: No changes to the Notice were made based on these comments. Employees appointed using Highly Qualified Expert (HQE) authority will not convert into the AFC STRL Mod Demo.

Comment: A commenter expressed concern because Defense Civilian Intelligence Personnel System (DCIPS) employees are ineligible to convert to GS positions and asked whether AFC STRL Mod Demo employees will be eligible to apply for and convert to GS positions.

Response: No changes to the Notice were made based on these comments. Unlike DCIPS positions which are in the excepted service, AFC STRL Mod Demo positions are in the competitive service and employees are eligible to convert to other competitive service positions.

Comment: Commenters asked how conversion will work if an employee is already paid at the top of a pay scale (e.g., GS-11 step 10) and will that employee be converted into the next pay band. Additionally, commenters asked how salary will be determined if a GS-13 and GS-14 converting in if both employees received the same rating, perform the same duties, and have the same responsibilities. Lastly, commenters asked whether an employee who is performing satisfactorily may be placed in a lower pay band within the same career path or placed into a pay band in a different career path with a lower pay.

Response: No changes to the Notice were made based on these comments. Employees will convert into the pay band that encompasses their current GS Grade. Positions in a higher pay band will have more complex duties and responsibilities and will have different performance objectives than similar positions in a lower pay band.

Comment: A commenter requested wording be added to address employee conversion from a current demo (ARL STRL and Acquisition Demonstration) into the AFC STRL Mod Demo.

Response: Section IV.A, Conversion into the Demonstration Project, was revised to address this comment by adding the following language, “Organizational conversion to the AFC STRL Mod Demo occurs when a new organization or a group of employees convert into the demonstration project. Conversion from current GS grade or other pay banding system into AFC STRL Mod Demo will be accomplished during implementation of the demonstration project. Initial entry into the demonstration project will be accomplished through a full employee-protection approach that ensures each employee an initial place in the appropriate career path and pay band without loss of pay or earning potential.”

Comment: Commenters expressed myriad concerns about converting GS-14 positions to Pay Band III.

Response: Section IV.A has been revised to require conversion of all employees who are currently in GS-14 positions to pay band IV. All employees currently on GS-12 and GS-13 positions will move into pay band III. Section III.H.12, Accelerated Compensation for Developmental Positions section, has been revised to state, “The AFC STRL Mod Demo organizations may authorize an increase to basic pay for employees participating in training programs, internships, or other development capacities. This may include employees in positions that cross bands within a career path (formally known as career ladder positions) or developmental positions within a band. ACDP will be used to recognize development of job-related competencies as evidenced by successful performance within AFC STRL Mod Demo. Additional guidance will be published in an IOPs.” AFC researched and utilized best practices from organizations across DoD, including the AFC Enterprise organizations currently operating STRL demonstration projects. The pay band structure supports progression across journey level positions. The AFC STRL Mod Demo is designed to reflect different organizational mission requirements along with career progression for S&E and B&T career paths and has been successfully implemented in other STRL demonstration projects.

Section IV.A., Conversion into the Demonstration Project, has been revised to state, “The placement of GS-14 employees will be in Pay Band IV during initial conversion into AFC STRL Mod Demo. After initial conversion, GS-14's will be assigned based on classification requirements. Additional guidance will be included in AFC STRL Mod Demo IOPs, and conversion operations will be overseen by the PMB.” GS-14s in Pay Band IV will have competitive advantage based on the complexity of work and duties and responsibilities they are required to perform. There are multiple factors considered prior to moving a person from one position to another. An employee must compete for a higher banded position unless the employee meets the “Exceptions to Competitive Procedures for Assignment to a Position” listed in the FRN.

Comment: Commenters expressed concerns with grade and pay retention entitlements being eliminated at the time of conversion into the demonstration project.

Response: Section IV.A, Conversion into the Demonstration Project, has been revised to state, “The project will eliminate retained grade under 5 U.S.C. 5362 and 5 CFR part 536. At the time of conversion, an employee on grade retention will be converted to the career path and broadband level based on the assigned permanent position of record, not the retained grade, and placed on pay retention. Pay retention will follow current law and regulations at 5 U.S.C. 5363 and 5 CFR part 536, except as modified in the Staffing Supplements section and waived in Section IX of this plan. Additionally, section III.H, Pay Setting, is revised to add section III.H.10., Grade and Pay Retention.

P. Demonstration Project Costs

Comment: A commenter asked if the cost numbers were adjusted for inflation in Figure 7 since the numbers appeared similar across fiscal years. The commenter further asked whether other costs associated with the demonstration project were adjusted for inflation.

Response: No changes to the Notice were made based on these comments. Inflation was considered in calculating the development costs in Figure 7.

Q. Appendix A: Occupational Series by Career Path

Comment: Some commenters expressed concerns about inaccuracies or inconsistencies in occupational series, career paths, position titles, and use of asterisks.

Response: All occupational series within AFC STRL Mod Demo organizations were reviewed and Appendix A has been revised to add missing occupational series and designate appropriate career paths. Additionally, asterisks were added for those occupational series that currently have employees assigned. The titles of positions were not changed. AFC STRL Mod Demo utilized the OPM classification standards for identification of the position title and occupational series. Based on the series determination(s), positions will be assigned to a specific career path, i.e., Science & Engineering (Pay Plan DB), Business & Technical (Pay Plan DE), or Support (Pay Plan DK). The AFC STRL Mod Demo utilized OPM career occupation coverage as a guideline to assign series to each career path. Lastly, all current series for AFC and CFT employees will be included under AFC STRL Mod Demo and will cover the mission capabilities and validation requirements. The professional occupational career paths for AFC STRL Mod Demo are the same as the OPM Professional Career Occupational Coverage.

R. Other Comments

Comment: A commenter asked if conversion to the STRL would affect leave.

Response: No changes to the Notice were made based on these comments. Leave entitlements are not impacted by conversion into the AFC STRL Mod Demo.

Comment: Commenters cited high costs of living in Austin locality and inquired whether AFC STRL Mod Demo can address this if the control points within the pay bands mimic the GS pay system. Additionally, commenters asked how AFC STRL Mod Demo will cover the shortfall if this wasn't included in the POM for the conversion costs. Furthermore, commenters asked why AFC hasn't considered moving AFC HQ to another location that would be more cost effective.

Response: No changes to the Notice were made based on these comments. Locality pay for specific areas and the location of AFC HQ is beyond the scope of the AFC STRL Mod Demo Notice.

Comment: A commenter asked why Reduction in Force (RIF) information is not included in the FRN and asked how Mod Demo will implement a RIF.

Response: No changes to the Notice were made based on these comments. All DoD STRLs follow the RIF guidance at 87 FR 58334. Organization-specific RIF policies will be documented in AFC STRL Mod Demo organization IOPs.

Comment: A commenter asked for data that shows the changes to employees' career tracks and how that may negatively affect employees. Additionally, commenters stated the goals of the program have no baseline and asked what privileges or rights will be lost in comparison to other Federal employees.

Response: No changes to the Notice were made based on these comments. AFC STRL Mod Demo will not change employee career tracks. The pay band system provides more opportunities for advancement. There are more hiring and pay flexibilities under AFC STRL Mod Demo than the current GS system.

Comment: A commenter stated if civilians are covered by pay bands, then military members should be as well, to align civilian and military rank structure.

Response: No changes to the Notice were made based on these comments. The Notice implements STRL authorities to expeditiously hire and retain highly qualified civilian employees.

Comment: Commenters asked about bargaining unit negotiations, pay structure, and other decisions that are part of the bargaining process and specifically whether bargaining unit members would convert if the union does not agree to the project.

Response: No changes to the Notice were made based on these comments. Bargaining unit employees will not convert into the AFC STRL Mod Demo until any applicable labor obligations have been met.

Comment: Commenters asked if an employee with performance issues could lose their annual general pay increase (i.e., cost of living increase) and whether the locality pay adjustment could be denied.

Response: No changes to the Notice were made based on these comments. As stated in section III.D.12., “Employees, who are on a performance improvement plan and/or receive a Level 1 rating of record at the time pay determinations are made, may be denied performance payouts or the general pay increase.” When the employee has performed at an acceptable level for at least 90 days, the general pay increase (GPI) will not be retroactive but will be granted at the beginning of the next pay period after the supervisor authorizes its payment. Employees remain entitled to the locality pay adjustment no matter the rating received. AFC STRL Mod Demo is moving away from the GS pay system to ensure employees are rewarded based on performance.

Comment: Commenters asked what was meant by “shall be as defined under applicable U.S. OPM operating rules and regulations.” Additionally, a commenter asked if current job descriptions from the GS system will be changed for any or all employees.

Response: No changes to the Notice were made based on these comments. AFC STRL Mod Demo will exercise authorities that are not specifically addressed in the Notice pursuant to applicable OPM and DoD regulations. Employees converting to Mod Demo will be reassigned to new Mod Demo position descriptions.

Comment: Some commenters expressed a need to evaluate AFC STRL Mod Demo in future years to ensure continued fairness and equity and to verify that the STRL is still beneficial to the AFC mission and organizations and questioned whether unions or a neutral third party would be involved in the evaluation. Commenters also expressed a need to value years of experience and offset supervisors' biases and perceptions. Additionally, commenters suggested providing guaranteed increases and bonuses on top of the base pay for those performing well to promote retention.

Response: No changes to the Notice were made based on these comments. Selection of candidates and other personnel actions will continue to be based on merit system principles. AFC STRL Mod Demo has incorporated an EEO/diversity, equity, and inclusion element as one of the mandatory supervisor performance objectives. Additionally, AFC STRL Mod Demo will provide supervisor and leadership training to develop capabilities and skills to better engage employees. AFC STRL Mod Demo will evaluate the project within five years of implementation of the project in accordance with 5 U.S.C. chapter 47. Data will be collected internally and externally based on standards and guidelines developed by the USD(R&E). Furthermore, AFC STRL Mod Demo will collect climate survey data. Results of evaluation data will be provided to the USD(R&E) and the AFC STRL Mod Demo workforce, as appropriate. Each year the PMB will review the STRL policies to determine if changes are needed. Each organization will work with its respective union to ensure bargaining union requirements are met and union input is captured appropriately.

Comment: Commenters questioned expanding the scope of the career fields covered by AFC STRL Mod Demo from scientific and technical career fields to include administrative and other professional areas.

Response: No changes to the Notice were made based on these comments. STRLs are not just pursuing scientific and engineering talent, but all talent, ensuring there are always qualified administrative and other professional staff to support the STEM mission.

Comment: A commenter suggested the use of direct hire authorities is inconsistent with merit system principles for promoting transparent, fair, and open competition and that direct hire is often a closed, virtually non-competitive program that promotes the hiring of friends and acquaintances and allows use of other than merit-based factors in selecting employees and candidates.

Response: No changes to the Notice were made based on these comments. The Department has a long history of successfully using direct hire authorities, consistent with merit system principles, to meet its critical national security workforce needs. Innovative research is critical to preparing DoD to meet the challenges of the future.

Table of Contents

I. Executive Summary

II. Introduction

A. Purpose

B. Problems With the Present System

C. Changes Required/Expected Benefits

D. Participating Organizations

E. Participating Employees and Union Representation

F. Project Design

G. Personnel Management Board (PMB)

H. Organizational Structure and Design

I. Funding Levels

III. Personnel System Changes

A. Levels of Authority and Responsibility

B. Pay Banding

C. Classification

D. Pay-for-Performance Management System

E. Hiring and Appointment Authorities

F. Volunteer Emeritus and Expert Program (VEP)

G. Internal Placement

H. Pay Setting

I. Employee Development

J. Voluntary Early Retirement (VERA) and Voluntary Separation Incentive Pay (VSIP)

IV. Conversion

A. Conversion Into the Demonstration Project

B. Conversion or Movement From a Project Position to a General Schedule Position

V. Implementation Training

VI. Project Maintenance and Changes

VII. Evaluation Plan

A. Overview

B. Evaluation Model

C. Method of Data Collection

VIII. Demonstration Project Costs

IX. Required Waivers to Laws and Regulations

A. Title 5, United States Code

B. Title 5, Code of Federal Regulations

Appendix A: Occupational Series in Each Pay Band

Appendix B: List of Local Unions

I. Executive Summary

AFC leads a continuous transformation of Army modernization in order to provide future warfighters with the concepts, capabilities, and organizational structures they need to dominate a future battlefield. AFC is the newest Army Command, established in 2018 when the Army consolidated many of its laboratories, concepts development centers, and innovation elements under one command structure.

Although the organizations comprising the AFC STRL share the same overarching modernization mission, their specific alignments, structures, and workforces differ dramatically. The organizations include two large headquarters elements, two analysis centers, multiple cross functional teams, and two concepts and capabilities development organizations. They all share the urgent need for a high-quality, contemporary, flexible personnel management system to attract, motivate, train, and retain a top-performing science, technology, and modernization workforce.

The goal of the AFC STRL Mod Demo is to make AFC STRL a premier employer with growth opportunities, competitive pay, and management flexibilities to take care of both employees and the mission. The AFC STRL Mod Demo features pay banding, performance-based compensation, flexible hiring, and a modern approach to career progression and assignments.

II. Introduction

A. Purpose

The purpose of STRL personnel demonstration project is to demonstrate that the effectiveness of DoD STRLs can be enhanced by expanding opportunities available to employees and by allowing greater managerial control over personnel functions through a more responsive and flexible personnel system. A top-tier workforce is essential to the AFC STRL's efforts towards achieving technological innovation and modernization for the Army. AFC STRL needs a contemporary, flexible personnel management system to attract, motivate, train, and retain a top-performing science, technology, and modernization workforce. The goal of this project is to ensure AFC STRL remains a premiere employer with growth opportunities, appropriate pay, and management flexibility to take care of both employees and the mission.

While many aspects of a demonstration project were once considered experimental, many have been implemented in various DoD laboratories for several years, including other STRLs within AFC. Modifications to the initial project plans have been made based on the implementation experience of these laboratories, best practices, and formative evaluation efforts. Additional modifications may be needed from time to time, as additional experience is gained and based on evaluations of how the system is working to meet the goals and objectives of the personnel demonstration project.

B. Problems With the Present System

The current Civil Service GS system has 15 grades with 10 levels each and involves lengthy, narrative, individual position descriptions, which must be classified by complex 5 CFR classification standards. Base pay is set at one of those fifteen grades and the ten interim steps within each grade. The Classification Act of 1949 rigidly defines types of work by occupational series and grade, with very precise qualifications for each job. This system does not quickly or easily respond to new ways of designing work and changes in the work itself. Changes to the classification and pay system would enable greater management control to create new types of jobs that respond to the fast-changing world of modernization work in which AFC STRL is engaged.

In addition to classification issues, the GS system's approach to career flexibility, progression, and changing work assignments is rigid, slow, and designed for industrial-era employees who entered Civil Service and remained until retirement. Modern employees expect careers that include frequent company changes, new challenges, and work-life balance fluctuations that do not require staying with a single employer. Allowing employees to move in and out of Civil Service while minimizing career impact would give AFC STRL access to an additional pool of scientists, engineers, and technical personnel, even when they have changing life circumstances. It would also increase information exchange between AFC STRL and industry.

The speed with which new science, technology, and engineering concepts emerge demands the ability to quickly re-shape work assignments, re-train employees, and maximize the potential of the existing workforce. Internal reassignments and promotions under the GS system are also rigid, and limitations on training further hamper efforts to respond to the rapid changes in the modernization mission.

C. Changes Required/Expected Benefits

The primary benefit expected from this demonstration project is greater organizational effectiveness through increased employee satisfaction. The long-standing Department of the Navy “China Lake” and subsequent demonstration projects have produced impressive statistics on increased job satisfaction and quality of employees versus that of the Federal workforce in general. Similar results have been demonstrated in more recent STRL demonstration projects and other alternative personnel systems implemented in the DoD and other agencies.

This project will demonstrate that a human resource system tailored to the mission and needs of the modernization workforce will facilitate:

(1) Increased quality in the workforce;

(2) More effective, efficient, and adaptable organizational systems;

(3) Improved timeliness of key personnel processes;

(4) Increased retention of excellent performers;

(5) Increased success in recruitment of personnel with critical skills;

(6) Increased information exchange between AFC STRL and industry;

(7) Increased permeability between Civil Service and industry; and

(8) Increased workforce satisfaction and engagement.

D. Participating Organizations

AFC STRL currently has employees located in twenty-one states and several countries. Just over half are spread across Aberdeen Proving Ground (Maryland), Austin (Texas), and White Sands Missile Range (New Mexico), with most of the remaining employees in Kansas, Virginia, Oklahoma, Georgia, Missouri, Alabama, Michigan, and other parts of Texas.

AFC STRL is comprised of multiple AFC organizations; the remaining AFC organizations are covered by independent STRL personnel demonstration projects. The AFC STRL is comprised of the organizations listed below (hereinafter referred to as “AFC STRL organizations,” and their components.

(1) AFC Headquarters and Headquarters Components (AFC HHC), which includes AFC Headquarters (HQ), AFC Support Battalion (AFCSB), Army Software Factory (ASWF), Artificial Intelligence Integration Center (AI2C), Army Applications Lab (AAL), and Acquisition & Systems (A&S) Directorate.

(2) AFC Cross Functional Teams (AFC CFTs), which includes Long Range Precision Fires (LRPF CFT); Next Generation Combat Vehicle (NGCV CFT); Future Vertical Lift (FVL CFT); Network Command Control Communications Integration (NC3I); Assured Positioning, Navigation and Timing/Space (APNT/S CFT); Air and Missile Defense (AMD CFT); Soldier Lethality (SL CFT); and Synthetic Training Environment (STE CFT).

(3) The Research and Analysis Center (TRAC).

(4) Futures and Concepts Center (FCC), which includes Joint Modernization Command (JMC) and the Capability Development Integration Directorates (CDIDs).

(5) Combat Capabilities Development Command (CCDC) Headquarters (also known as DEVCOM Headquarters).

(6) The DEVCOM Analysis Center (DAC).

E. Participating Employees and Union Representation

This demonstration project will cover civilian employees appointed under Title 5 U.S.C. in the occupations listed in Appendix A. Additional employees and other occupations may be added after implementation of the project. The project plan does not cover members of the Senior Executive Service (SES), Senior Level (SL) employees, Scientific and Professional (ST) employees, Federal Wage System employees, and employees presently covered by the Defense Civilian Intelligence Personnel System or Physicians and Dentists Pay Plan.

Department of the Army (DA), Army Command centrally funded, local interns, and Pathways Program employees may be converted to the demonstration project if assigned to an AFC STRL organization. Additional guidance will be included in the Mod Demo IOPs.

Sixteen local and/or national unions, from American Federation of Government Employees (AFGE), Laborer's International Union of North America (LIUNA), National Federation of Federal Employees (NFFE), National Association of Government Employees (NAGE), and National Association of Independent Labor (NAIL), cover approximately 30% of employees in the AFC STRL. A full list of the local unions is provided at Appendix B. AFC STRL organizations will continue to fulfill their obligations to consult and/or negotiate with all labor organizations in accordance with 5 U.S.C. 4703(f) and 7117 for bargaining unit participation.

F. Project Design

The AFC CG/AFC STRL Director leveraged the knowledge of experienced and tenured STRL leaders within the greater AFC organization to finalize the AFC STRL Mod Demo project plan. In consultation with members of the Laboratory Quality Enhancement Program Personnel Subpanel, other DoD laboratories, Army G1, Army Civilian Human Resources Agency, and a host of other knowledgeable agencies and personnel, the AFC STRL operational planning team conducted a comprehensive review of personnel flexibilities used in existing DoD laboratories and other government agencies. It also analyzed organizational needs and considered innovative personnel practices used outside of the federal government to develop proposed flexibilities for the AFC STRL Mod Demo.

AFC STRL employed an executive Board of Directors comprised of leaders from across the AFC STRL to accommodate the differing needs of AFC STRL organizations, and a Council of Champions led by the AFC CG/AFC STRL Director to ensure all proposals support AFC STRL's strategic needs. Collaboration and oversight by Army and DoD ensured alignment with Departmental goals.

The resulting project design for Mod Demo will be overseen by the AFC CG/AFC STRL Director. It will be implemented through six organization-specific Internal Operating Procedures (IOPs) and a single Mod Demo Personnel Management Board (PMB). Each of the AFC STRL organizations listed in Paragraph D will have its own IOP. Authority to draft, modify, implement, negotiate, and approve each IOP shall rest with these organizations. A review of these Mod Demo IOPs will be completed by the servicing legal office prior to approval. The IOP will be distributed to the workforce for information, prior to STRL implementation.

Any responsibilities and authorities normally associated with STRL Directors that are not specifically defined in this Notice shall be as defined under applicable U.S. OPM operating rules and regulations. Additional information on delegated authorities and the project structure are included in Section III.

G. Personnel Management Board (PMB)

AFC STRL will create a Mod Demo PMB to oversee and monitor the fair and equitable implementation of the provisions of the demonstration project, including establishment of internal controls and accountability. The board will consist of the AFC Executive Deputy to the Commanding General (EDCG), as PMB Chair, and officials from the AFC STRL organizations listed in Paragraph D. PMB members will be appointed in accordance with this Federal Register Notice and IOPs will include measures for ensuring a variety of perspectives are represented. The names of PMB members will be provided to the workforce. The AFC EDCG may delegate membership, add, remove, or change the membership of the PMB, in accordance with the evolution of the AFC STRL Mod Demo. The PMB may also include experts in Human Resources, Resource Management, or other relevant areas, as appointed by the AFC EDCG.

Based on guidance and consistent interaction with the AFC EDCG, the board will execute the following:

(1) Oversee the implementation guidance and procedures in all aspects of the Mod Demo program in accordance with the direction given by the AFC CG/AFC STRL Director;

(2) Issue top-level guidelines for AFC STRL organizations to establish and implement pay pools;

(3) Review pay pool results for equity and conformance, on an annual basis;

(4) Resolve administrative pay pool disputes that are not resolved through other means;

(5) Establish guidelines for the use of retention counteroffers;

(6) Review and approve the assignment of new occupational series to a pay band, if necessary;

(7) Establish guidelines for exceptions to base pay increases, such as Extraordinary Achievement Rewards and Distinguished Contribution Allowances;

(8) Establish guidelines for the Voluntary Emeritus/Expert Program;

(9) Modify the Standard Performance Elements, as needed;

(10) Establish guidelines for the use of subject matter expert qualifications for exceptional experience;

(11) Approve any performance-based rules created and administered by AFC STRL organizations, prior to their implementation;

(12) Assess the need for changes to demonstration project procedures and policies and provide leadership for efforts to modify this FRN;

(13) Promote collaboration and best practices within Mod Demo;

(14) Review Mod Demo IOPs for equity and conformance;

(15) Track personnel cost changes and recommend adjustments, if required;

(16) Conduct formative evaluations of the project, including those directed by DoD.

In executing these duties and responsibilities, the board will keep in close contact and consultation with the AFC EDCG to ensure policies and procedures are executed consistently throughout Mod Demo and are aligned with AFC STRL strategic objectives.

H. Organizational Structure and Design

To optimize the effectiveness and efficiency of the AFC STRL during the adoption of the new personnel demonstration system, the AFC STRL may review and realign the organization structure to best meet mission needs and requirements. Realignment may include removing limitations in terms of supervisory ratios consistent with 10 U.S.C. 4121, and the alignment and organization of the workforce required to accomplish the mission of the AFC STRL.

In general, the AFC CG/AFC STRL Director will manage the STRL's workforce strength, structure, positions, and compensation without regard to any limitation on appointments, positions, or funding in a manner consistent with the budget available in accordance with 10 U.S.C. 4091.

I. Funding Levels

The Under Secretary of Defense (Personnel & Readiness) may adjust the minimum funding levels to consider factors such as the Department's fiscal condition, guidance from the Office of Management and Budget, and equity in circumstances when funding is reduced or eliminated for GS pay raises or awards.

III. Personnel System Changes

A. Levels of Authority and Responsibility

Due to the unique structural design of this demonstration project, certain responsibilities that are typically reserved for STRL lab directors are assigned to other AFC STRL officials. Such designations are referenced throughout this Notice using the definitions in this section. No responsibilities, authorities, or delegations in this Notice are intended to replace or override command authorities.

Definitions. The following terminology is used throughout this Notice to refer to management and other officials in the AFC STRL.

(1) AFC STRL Director. This term refers to the AFC CG.

(2) AFC STRL organization approval authority. This term refers to the following positions in their respective organizations: AFC EDCG for AFC HQ; AFC Principal Deputy CG for CFT; FCC CG for FCC; Director, TRAC for TRAC; DEVCOM CG for DEVCOM HQ; and Director, DAC for DAC.

(3) PMB Member. This term refers to a member of the PMB, as defined in Section II.G. of this Notice.

(4) Pay Pool Manager. This term refers to the individual who approves the total performance ratings, reviews the ratings of employees within the pay pool for consistency and fairness, resolves any rating issues, and makes final decisions on ratings and payouts.

(5) Pay Pool Panel/Reconciliation Board. This term refers to the group of supervisors/managers who reconcile ratings and payouts for the employees in each pay pool.

B. Pay Banding

The design of the AFC STRL Mod Demo pay band system takes advantage of the exhaustive studies performed by DA and DoD of pay band systems currently practiced in the Federal sector, including those practiced by the Navy's “China Lake” experiment and the National Institute of Standards and Technology. The pay band system will replace the current GS structure. Currently, the fifteen grades of the GS are used to classify positions and, therefore, to set pay. The GS covers most civilian white-collar Federal employees in professional, technical, administrative, and clerical positions. Changes in this rigid structure are required to allow flexibility in hiring, developing, retaining, and motivating the workforce.

1. Career Paths and Pay Bands

Occupations with similar characteristics will be grouped together into one of three career paths with pay bands designed to facilitate pay progression. Each career path will be composed of pay bands corresponding to recognized advancement and career progression expected within the occupations. Each career path will be divided into three to five pay bands with each pay band covering the same pay range now covered by one or more GS grades. The upper and lower pay rate for base pay of each pay band is defined by the minimum and maximum GS rate for the grade as indicated in Figure 1, except for Level V of the S&E career path. Comparison to the GS grades was used in setting the upper and lower base pay dollar limits of the pay bands. However, once employees are moved into the demonstration project, GS grades will no longer apply.

The occupational series listed in Appendix A served as guidelines in the development of the following three career paths:

Science and Engineering (S&E) (Pay Plan DB): This career path includes technical professional positions, such as engineers, physicists, chemists, mathematicians, operations research analysts, and computer scientists. This career path also includes certain Information Technology (IT) (occupational series 2210) positions. It includes such positions that contribute to highly technical and/or scientific programs that reside in the research, development, or engineering domains, using offensive, and defensive cyber competencies. These positions will directly support science and technology initiatives contributing to the development of cyber resilient Army transformation and readiness technologies. These positions include highly skilled and high demand cybersecurity positions such as certified vulnerability assessment blue team and/or National Security Agency certified red team subject matter experts. All other IT specialists will be included in the B&T career path. Specific course work or educational degrees are required for these occupations (except cyber-IT). Five pay bands have been established for the S&E career path:

a. Pay Band I is a student trainee track covering GS-1, step 1 through GS-4, step 10.

b. Pay Band II is a developmental track covering GS-5, step 1 through GS-11, step 10.

c. *Pay Band III includes GS-12, step 1 through GS-14, step 10.

d. *Pay Band IV includes GS-14, step 1 through GS-15, step 10.

e. Pay Band V covers Senior Scientific Technical Manager (SSTM) positions which are described in further detail in paragraph 2 of this section.

* Pay Bands III and IV overlap at the end and start points. These two pay bands have been designed following a feature used by the Navy's “China Lake” project. Prior to implementation, personnel decisions regarding the overlap will be defined in Mod Demo IOPs in accordance with the PMB-approved classification guidance.

Business & Technical (B&T) (Pay Plan DE): This career path includes such positions as computer specialist, equipment specialist, quality assurance specialist, telecommunications specialist, engineering and electronics technicians, procurement coordinators, finance, accounting, administrative computing, and management analyst. Employees in these positions may or may not require specific course work or educational degrees. Four pay bands have been established for the B&T career path:

a. Pay Band I is a student trainee track covering GS-1, step 1 through GS-4, step 10.

b. Pay Band II includes GS-5, step 1 through GS-11, step 10.

c. *Pay Band III includes GS-12, step 1 through GS-14, step 10.

d. *Pay Band IV includes GS-14, step 1 through GS-15, step 10.

*Pay Bands III and IV overlap at the end and start points. These two levels have been designed following a feature used by the Navy's “China Lake” project. Prior to implementation, personnel decisions regarding the overlap will be defined in the Mod Demo IOPs in accordance with the PMB-approved classification guidance.

Support (Pay Plan DK): This career path consists of clerical and assistant positions for which specific course work or educational degrees are not required. Clerical work usually involves the processing and maintaining of records. Assistant work requires knowledge of methods and procedures within a specific administrative area.

a. Pay Band I include entry-level positions covering GS-1, step 1 through GS-4, step 10.

b. Pay Band II includes full-performance positions covering GS-5, step 1 through GS-8, step 10.

c. Pay Band III includes senior technicians/assistants/secretaries covering GS-9, step 1 through GS-10, step 10.

2. Senior Scientific Technical Managers (SSTM)

AFC STRL Mod Demo will include a category of SSTM positions, as directed by 10 U.S.C. 4091 and described in 79 FR 43722. S&E Pay Band V will apply exclusively to positions designated as SSTMs.

The SSTM program will be managed and administered by the AFC EDCG unless delegated in writing to an AFC STRL organization approval authority. These SSTM positions are managed separately from SES, ST, and SL positions. The primary functions of SSTM positions are (a) to engage in research and development in the physical, biological, medical, or engineering sciences, or another field closely related to the mission of such STRL; and (b) to carry out technical supervisory responsibilities. The number of such positions is limited in accordance with 10 U.S.C. 4091. This authority is expected to provide an opportunity for career development and expansion of a pool of experienced, prominent technical candidates meeting the levels of proficiency and leadership essential to create and maintain a DoD state-of-the-art scientific, engineering, and technological capability.

Positions may be filled: (a) On a temporary, term, or permanent basis utilizing appropriate internal and/or external competitive recruitment procedures; (b) through accretion-of-duties promotions; or (c) using a direct hire authority. Positions may also be filled temporarily using non-competitive procedures (e.g., detail and temporary promotions). The AFC CG has the discretion to select the recruitment and staffing method most appropriate based on the specialized position requirements and available candidate pool. However, the recruitment and staffing methodology must include: (a) An internal process which incorporates an impartial, rigorous, and demanding assessment of candidates to evaluate the breadth of their technical expertise; (b) an external recruitment process; (c) creation of panels to assist in filling positions; or (d) other comparable recruitment and/or staffing mechanisms.

Panels will be created to assist in the review of candidates for SSTM positions. Panel members typically will be SES members, ST employees, and those employees designated as SSTMs. In addition, General Officers and recognized technical experts from outside AFC STRL may serve, as appropriate. The panel will apply criteria developed largely from the OPM Research Grade Evaluation Guide for positions exceeding the GS-15 level and other OPM guidance related to positions exceeding the GS-15 level. The purpose of the panel is to ensure impartiality and a rigorous and demanding review.

3. Position Control Points

Control points may be used as a compensation strategy when management determines the duties and responsibilities of a position do not warrant unconstrained salary progression through the entire range of the pay band. If used, control points will be documented on the classified position description. Increasing an employee's salary beyond a control point, if established or used, will require review of both the position and performance of the employee. Advancement across a control point may not occur without approval of the AFC STRL organization approval authority, unless further delegated in the applicable IOP. Additional guidance will be included in the AFC STRL organization specific IOP.

C. Classification

1. Occupational Series

The present GS classification system has over 400 occupational series, which are divided into 23 occupational groupings. AFC STRL currently has positions in 84 occupational series as indicated in Appendix A. Additional occupational series may be added to the AFC STRL Mod Demo, as needed.

2. Classification Standards and Position Description

AFC STRL will utilize OPM classification standards for the identification of proper series and occupational titles of positions within the demonstration project. The grading criteria in those standards will be used as a framework to develop new, simplified, and equitable standards for the purpose of pay band determinations. The objective is to include in the position description the essential criteria for each pay band within each career path by stating the characteristics of the work, the responsibilities of the position, and the competencies required. The classification standard for each career path and pay band will serve as an important component to update existing position descriptions, which will include position-specific information, and provide data element information pertinent to the job. The computer-assisted process will produce information necessary for position descriptions. The new descriptions will be easier to prepare, minimize the amount of writing time, and make the position description a more useful and accurate tool for other personnel management functions.

Specialty work and/or competency codes with corresponding narrative descriptions will be used in position descriptions to further differentiate types of work and the competencies required for positions within a career path and pay band. Each code represents a specialization or type of work within the occupation.

3. Fair Labor Standards Act (FLSA)

FLSA exemption and non-exemption determinations will be consistent with criteria found in 5 CFR part 551. All employees are covered by the FLSA unless their position meets the criteria for exemption. The duties and responsibilities outlined in the classification standards for each pay band will be compared to the FLSA criteria. Generally, the FLSA status can be matched to career path and pay band as indicated in Figure 2. For example, positions classified in pay band I of the S&E career path are typically nonexempt, meaning they are covered by the overtime entitlements prescribed by the FLSA. An exception to this guideline includes supervisors/managers at pay band I or II whose primary duties meet the definitions outlined in the OPM GS Supervisory Guide. Therefore, supervisors/managers in any of the career paths who meet the foregoing criteria generally are exempt from the FLSA. The AFC STRL classification authorities will make the determinations on a case-by-case basis by comparing assigned duties and responsibilities to the classification standards for each career path and the 5 CFR part 551 FLSA criteria. Additionally, the advice and assistance of the servicing personnel office will be obtained in making determinations. The position descriptions will not be the sole basis for the determination. Basis for exemption will be documented and attached to each position description. Exemption criteria will be narrowly construed and applied only to those employees who clearly meet the spirit of the exemption. Changes will be documented and provided to the servicing personnel office.

Note: Although typical exemption status under the various pay bands is shown in the above table, actual FLSA exemption determinations are made on a case-by-case basis.

4. Classification Authority

The AFC STRL organizations will have classification authority and may delegate this authority in writing to appropriate levels. Any individual with delegated classification authority must complete required training. Position descriptions will be developed to assist in exercising delegated position classification authority.

Classification authorities will identify the career path, job series, functional code, specialty work and/or competency code, pay band, and other critical information. Human Resources professionals will provide ongoing consultation and guidance to managers and supervisors throughout the classification process. These decisions will be documented in the position description.

5. Classification Appeal

Classification appeals under this demonstration project will be processed using the following procedures: An employee may appeal the determination of career path, occupational series, position title, and pay band of the position at any time. An employee must formally raise the area of concern to supervisors in the immediate chain of command, in writing. If the employee is not satisfied with the supervisory response, the employee may then appeal to the AFC STRL organization PMB representative. An appeal may then be made to the AFC EDCG. If the employee is not satisfied with the AFC EDCG's response to the appeal, a final appeal may then be made to the DoD appellate level. The appeal process will be defined in each Mod Demo IOP. Classification appeals are not accepted on positions which exceed the equivalent of a GS-15 level. Time periods for cases processed under 5 CFR part 511 apply.

The evaluation of classification appeals under this demonstration project are based upon the demonstration project classification criteria. Case files will be forwarded for action through the servicing personnel office and will include copies of appropriate demonstration project criteria.

D. Pay-for-Performance Management System (PFP)

1. Overview

The purpose of the PFP system is to provide an effective, efficient, and flexible method for assessing, compensating, and managing the AFC STRL modernization workforce. It is essential for the development of a high performing workforce and to provide management at the lowest practical level, the authority, control, and flexibility needed to achieve a quality organization and meet mission requirements. PFP allows for more employee involvement in the assessment process, strives to increase communication between supervisor and employee, promotes a clear accountability of performance, facilitates employee career progression, and provides an understandable and rational basis for salary changes by linking pay and performance.

The PFP system uses annual performance payouts that are based on the employee's total performance score rather than within-grade increases, quality step increases, and performance awards. The normal rating period will be one year. The minimum rating period will be 90 days. PFP payouts can be in the form of increases to base pay and/or bonuses that are not added to base salary but rather are given as a lump sum payment. Other awards, such as special acts and time-off awards, will be administered separately from the PFP payouts.

The AFC STRL Mod Demo PFP system may be modified by the PMB, if necessary, as more experience is gained under the project. Each AFC STRL organization will publish the details of its PFP system rules and available funding limits in its IOP and/or annual PFP guidance.

2. Performance Elements

Performance elements define common performance characteristics that will be used to evaluate the employee's success in accomplishing performance objectives. The use of common characteristics for scoring purposes helps to ensure comparable scores are assigned while accommodating diverse individual objectives. The PFP system will utilize those performance elements as described in this FRN. AFC STRL organizations can determine which elements are critical. A critical performance element is defined as an attribute of job performance that is of sufficient importance that performance below the minimally acceptable level requires remedial action and may be the basis for removing employees from their positions. Each of the performance elements will be assigned a two-digit weight between 0 and 1 rounding two significant digits, which reflects its importance in accomplishing an individual's performance objectives. A minimum weight is set for each performance element. The sum of the weights for all the elements must equal 1.0. Rules for setting weights will be defined in Mod Demo IOPs.

A single set of performance elements will be used for evaluating the annual performance of all AFC STRL personnel covered by this Mod Demo plan. This set of performance elements may evolve over time, based on experience gained during each rating cycle. This evolution is essential to capture the critical characteristics the organization encourages in its workforce toward meeting individual and organizational objectives. This is particularly true in an environment where technology and work processes are changing at an increasingly rapid pace. The PMB may adjust the elements annually.

The initial set of performance elements and basic definitions for the AFC STRL Mod Demo are listed below. On an annual basis, AFC STRL organizations will select at least four elements based on mission requirements. Additionally, the Supervision/EEO element is mandatory, and may be updated as needed, for all employees whose assigned duties which meet the definition of Supervisor, outlined in the OPM GS Supervisory Guide. AFC STRL organizations will publish more specific element definitions and benchmark performance standards that describe performance associated with each score level in their IOPs.

(1) Technical Competence—The extent to which an employee demonstrates the technical knowledge, skills, abilities, and initiative to produce the quality and quantity of work as defined in individual performance objectives and assigned tasks.

(2) Mission Impact—The extent to which an employee demonstrates individual performance against strategic goals and initiatives as defined in individual performance objectives and assigned tasks.

(3) Customer Satisfaction—The extent to which an employee delivers high levels of service to internal and external customers/stakeholders. Maintains quality customer/stakeholder relationship(s).

(4) Management of Time and Resources—The extent to which an employee demonstrates ability to manage time and resources.

(5) Teamwork—The extent to which an employee encourages and facilitates cooperation, collaboration, pride, trust, and group identity; fosters commitment and esprit-de-corps; works with others to achieve goals.

(6) Communication—The extent to which an employee demonstrates ability to communicate orally and in writing to achieve mutual understanding or desired results.

(7) Management/Leadership—The extent to which an employee influences, motivates, and challenges others; adapts leadership styles to a variety of situations.

(8) Supervision/EEO—The extent to which a supervisor: (1) Ensures compliance with applicable laws, regulations and policies including Merit System Principles and Prohibited Personnel Practices; (2) Attracts and retains a high-caliber workforce and acts in a responsible and timely manner on all steps in the recruitment and hiring process; (3) Provides opportunities for orientation and tools for enabling employees to successfully perform during the probationary period and beyond; (4) Completes all performance management tasks in a timely manner including clearly communicating performance expectations throughout the appraisal period, holding employees accountable, making meaningful distinctions in performance and rewarding excellent performance, promoting employee development and training, and promptly addressing performance and conduct issues; (5) Ensures that EEO principles are adhered to throughout the organization and promptly addresses allegations of discrimination, harassment, and retaliation; (6) Upholds high standards of integrity and ethical behavior, including: ensuring appropriate internal controls to prevent fraud, waste or abuse; safeguarding assigned property/resources; maintaining a safe work environment and promptly addressing allegations of noncompliance; and supporting the Whistleblower Protection Program by responding constructively to employees who make protected disclosure under 5 U.S.C. 2302(b)(8), taking responsible and appropriate actions to resolve any such disclosure, and creating an environment in which employees feel comfortable making such disclosures; and (7) Influences, motivates, and challenges others through adaptive leadership; takes charge of assigned effort(s); overcomes challenges to success; resolves personal and professional conflicts; and looks for opportunities to assist others to achieve success.

3. Performance Objectives

Performance objectives define a target level of activity, expressed as a tangible, measurable objective, against which actual achievement can be compared. These objectives will specifically identify what is expected of the employee during the rating period and will typically consist of three to ten results-oriented statements. The employee and the supervisor will jointly develop the employee's performance objectives at the beginning of the rating period. If there is a disagreement between the employee and supervisor concerning these performance objectives, the employee's supervisor will render the final decision on the disagreement after fully considering the employee's comments. Objectives are to be reflective of the employee's duties/responsibilities and pay band along with the mission/organizational goals and priorities. Objectives will be reviewed annually and revised upon changes in salary reflecting increased responsibilities commensurate with salary increases. Performance objectives are intended to define an individual's specific responsibilities and expected accomplishments. In contrast, performance elements will identify common performance characteristics, against which the accomplishment of objectives will be measured. As a part of this demonstration project, training focused on overall organizational objectives, and the development of performance objectives will be held for both supervisors and employees. Performance objectives may be jointly modified, changed, or deleted as appropriate during the rating cycle. Generally, performance objectives should only be changed when circumstances outside the employee's control prevent or hamper the accomplishment of the original objectives. It is also appropriate to change objectives when mission or workload shifts occur.

4. Performance Feedback and Formal Ratings

The most effective means of communication is person-to-person discussion between supervisors and employees of requirements, performance goals, and desired results. Employees and supervisors alike are expected to actively participate in these discussions for optimum clarity regarding expectations and identify potential obstacles to meeting goals. In addition, employees should explain (to the extent possible) what they need from their supervisor to support goal accomplishment. The timing of these discussions will vary based on the nature of work performed but will occur at least at the mid-point and end of the rating period. The supervisor and employee will discuss job performance and accomplishments in relation to the performance objectives and elements. At least one review, normally the mid-point review, will be documented as a formal progress review. More frequent task-specific discussions may be appropriate. In cases where work is accomplished by a team, team discussions regarding goals and expectations may be appropriate.

The employee will provide a written list of accomplishments to the supervisor at both the mid-point and end of the rating period. An employee may elect to provide self-ratings on the performance elements and/or solicit input from team members, customers, peers, supervisors in other units, subordinates, and other sources which will permit the supervisor to fully evaluate accomplishments during the rating period.

At the end of the rating period, following a review of the employee's accomplishments, the supervisor will rate each of the performance elements by assigning a score between 0 and 50. Benchmark performance standards will be developed by the AFC STRL organization to describe the level of performance associated with a score. Supervisors will use the benchmark performance standards to determine appropriate ratings for each performance element. These scores will not be discussed with the employee or considered final until all scores are reconciled and approved by the designated Pay Pool Manager. The element scores will then be multiplied by the element-weighting factor to determine the weighted score expressed to two decimal points. The weighted scores for each element will then be totaled to determine each employee's overall appraisal score and rounded to a whole number as follows: if the digit to the right of the decimal is between five and nine, it should be rounded to the next higher whole number; if the digit to the right of the decimal is between one and four, it should be dropped.

A total score of 10 or below will result in a Level 1 rating of record. A score of 10 or below in a single element will also result in a Level 1 rating of record with zero shares and no GPI, and requires the employee be placed on a Performance Improvement Plan (PIP). A new rating of record will be issued if the employee's performance improves to an acceptable level at the conclusion of the PIP.

5. Unacceptable Performance

Informal feedback is an effective way to provide clarity to the employee and in-the-moment coaching. Additionally, informal discussions serve several purposes. For example, such discussions provide feedback for a specific job, set and reset goals, reinforce good habits, and discuss areas for improvement. Informal employee performance discussions will be a continuous process so that corrective action, including placing an employee on a PIP, may be taken at any time during the rating cycle. Whenever a supervisor recognizes an employee's performance on one or more performance elements is unacceptable, the supervisor should immediately inform the employee. Efforts will be made to identify the possible reasons for the unacceptable performance.

If the employee continues to perform at an unacceptable level or has received a Level 1 Rating of Record, written notification outlining the unacceptable performance will be provided to the employee. At this point an opportunity to improve will be structured in a PIP. The supervisor will identify the actions that need to be corrected or improved, outline required time frames (no less than 30 days) to demonstrate such improvement and provide the employee with any available assistance as appropriate. Progress will be monitored during the PIP, and all counseling sessions will be documented.

If the employee's performance is acceptable at the conclusion of the PIP, a new rating of record will be issued. If a PIP ends prior to the end of the annual performance cycle and the employee's performance improves to an acceptable level, the employee is appraised again at the end of the annual performance cycle.

If the employee fails to improve during the PIP, the employee will be given written notice of proposed action. This action can include removal from the Federal service, placement in a lower pay band with a corresponding reduction in pay (demotion), reduction in pay within the same pay band, or change in position or career path. For the most part, employees with a Level 1 rating of record will not be permitted to remain at their current salary and may be reduced in pay band.

Note: Nothing in this subsection will preclude action under 5 U.S.C. chapter 75, when appropriate.

All relevant documentation concerning a reduction in pay or removal based on unacceptable performance will be preserved and made available for review by the affected employee or a designated representative. As a minimum, the record will consist of a copy of the notice of proposed personnel action, the employee's written reply, if provided, or a written summary when the employee makes an oral reply. Additionally, the record will contain the written notice of decision and the reasons therefore along with any supporting material (including documentation regarding the opportunity afforded the employee to demonstrate improved performance).

If the employee's performance deteriorates to an unacceptable level, in any element, within two years from the beginning of a PIP, follow-on actions may be initiated with no additional opportunity to improve. If an employee's performance is at an acceptable level for two years from the beginning of the PIP and performance once again declines to an unacceptable level, the employee will be given an additional opportunity to improve before management proposes follow-on actions.

Additional details will be outlined in Mod Demo IOPs.

6. Reconciliation Process

At the end of the rating cycle and following the initial scoring of each employee by the supervisor, a panel of rating officials and supervisors, known as the pay pool panel, will meet in a structured review and reconciliation process managed by the Pay Pool Manager. In this step, each employee's performance objectives, accomplishments, preliminary scores and/or shares, and pay are discussed. Through discussion and consensus building, consistent and equitable ratings and/or shares are reached. There will not be a prescribed distribution of total scores. IOPs will further define this process.

7. Pay Pools

Employees within the AFC STRL Mod Demo will be placed into pay pools. Pay pools are combinations of organizational elements (e.g., Directorates, Divisions, Branches, and Offices) that are defined for the purpose of determining performance payouts under the PFP system. The guidelines in the next paragraph are provided for determining pay pools. These guidelines will normally be followed. However, an AFC STRL Mod Demo pay pool manager may deviate from the guidelines if there is a compelling need to do so, and the rationale is documented in writing.

The AFC STRL organizations will establish pay pools within their respective organizations. Typically, pay pools will have between 35 and 300 employees. A pay pool should be large enough to encompass a reasonable distribution of ratings but not so large as to compromise rating consistency. Supervisory personnel will be placed in a pay pool separate from subordinate non-supervisory personnel. Neither the Pay Pool Manager nor supervisors within a pay pool will recommend or set their own individual pay. Decisions regarding the amount of the performance payout are based on the established formal payout calculations.

Annual pay pool limits for base pay increases and bonuses, also referred to as payout factors, will be established by the AFC STRL organizations. Funds for performance payouts are divided into two components: base pay increases and bonuses. The funds used for base pay increases are those that would have been available from GS within-grade increases, quality step increases, and promotions. This amount will be defined based on historical data and set at no less than two percent of total adjusted base pay and no more than the maximum set by the AFC STRL organization. The funds available to be used for awards are funded separately within the constraints of the organization's overall award budget. This amount will be defined based on historical data and set at no less than one percent of total adjusted base pay and no more than the maximum set by the AFC STRL organization. The sum of these two factors is referred to as the Pay Pool Payout Factor and is determined by the AFC STRL organization within the above constraints. The PMB will annually review the pay pool funding formulas used by AFC STRL organizations and recommend adjustments to ensure cost discipline over the life of the demonstration project. AFC STRL organizations may reallocate the amount of funds assigned to each pay pool as necessary to ensure equity and to meet unusual circumstances.

8. Performance Payout Determination

Employee's Rating of Record levels will be determined by the Score Ranges as shown in Figure 3 below. The Rating of Record levels follow the Summary level rating patterns associated with 5 CFR 430.208, Pattern H. Mod Demo IOPs may designate descriptive titles for Level 1 through Level 5 ratings of record. The score ranges will be used as a guide to determine the number of shares the employee is assigned in the pay pool process. An employee will receive a performance payout as a percentage of the employee's salary at the end of the rating cycle, based on the number of shares assigned. AFC STRL organizations will use one of two methods for converting scores to shares. Score ranges and share option changes must be approved by the Mod Demo PMB. IOPs must state which method the AFC STRL organization will use, and Mod Demo employees will receive specific training covering this topic. AFC STRL organizations will provide written notice to the workforce at the start of the rating cycle concerning the basis of the share assignment.

Shares values will be assigned between 0 and 4 using any increment of shares for a given Score Range as shown in Figure 4. The pay pool panel will determine the shares based on the employee's score range. When selecting the share value, the pay pool panel may consider any of the following: the employee's salary relative to other employees in the same range, the employee's performance above and beyond expectations, the supervisor's recommendation, and how close the employee is to the top of the pay band.

Shares will be awarded as decimal numbers, rounded to the nearest tenth, based on the employee's score. Fractional shares will be awarded for scores that fall in between these scores, in accordance with Figure 5. For example: a score of 38 will equate to 1.8 shares, and a score of 44 will equate to 2.4 shares.

Regardless of whether Option A or Option B is implemented, the value of a share cannot be exactly determined until the rating and reconciliation process is completed and all scores are finalized. The formula that computes the value of each share is based on (1) the payout factors, (2) the employee's pay, and (3) the number of shares awarded to each employee in the pay pool. This formula, shown in Figure 6, assures that each employee within the pool receives a share amount equitable to all others in the same pool who are at the same rate of basic pay and receive the same score and shares. The exact Pay Pool Payout Factor will be determined by the AFC Mod STRL organization, in accordance with paragraph 7 above.

Where:

F = Pay Pool Payout Factor, determined by AFC STRL

Pay Pool Managers are accountable for staying within pay pool funding limits. The Pay Pool Manager makes final decisions on pay increases and/or bonuses to individuals based on rater recommendation, the final score, the pay pool funds available, and the employee's salary at the end of the rating cycle.

In addition, the designated pay pool manager may nominate employees for Extraordinary Achievement Recognition. Such recognition grants a base pay increase and/or bonus to an employee that is higher than the one generated by the compensation formula for that employee. The funds available for an Extraordinary Achievement Recognition are separately funded within the constraints of the organization's budget.

9. Base Pay Increases and Bonuses

An employee's shares will be paid out as a base pay increase, a bonus, or a combination. To continue to provide performance incentives while also ensuring cost discipline, base pay increases may be limited or capped. Certain employees will not be able to receive base pay increases due to base pay caps. Base pay is capped when an employee reaches the maximum rate of pay in an assigned pay band or when a performance-based rule applies (see paragraph 10 below). Employees affected by base pay caps and those receiving retained pay will receive the entire performance payout in the form of a bonus.

If the AFC STRL organization deems it appropriate, the Pay Pool Manager may re-allocate a portion (up to the maximum possible amount) of the unexpended base pay funds for capped employees to uncapped employees. Any dollar increase in an employee's projected base pay increase will be offset, dollar for dollar, by an accompanying reduction in the employee's projected bonus payment. Thus, the employee's total performance payout is unchanged.

PFP bonuses and salary increases must be effective within 120 days of the end of the appraisal cycle.

10. Performance-Based Rules

As a compensation management tool, AFC STRL organizations may establish performance-based rules to manage pay progression by career path, pay band, geographic location, or any other grouping. If established, such performance-based rules must be approved by the PMB and published to the workforce prior to implementation. In addition, the process for obtaining an exception to such rules must be documented in the IOP. Once established, performance-based rules may be used in the pay pool process to manage performance salary increases. Examples of performance-based rules include rules similar to a Mid-Point Rule. For example, to provide added performance incentives as an employee progresses through a pay band, a mid-point rule may be used to determine base pay increases. The mid-point rule dictates that employees must receive a score of 30 or higher for their base pay to cross the salary midpoint of their pay band. Also, once an employee's base pay exceeds the salary midpoint of their pay band, the employee must receive a score of 30 or higher to receive any additional base pay increases. Any amount of an employee's performance payout, not paid in the form of a base pay increase because of the mid-point rule, would be paid as a bonus. This rule effectively raises the standard of performance expected of an employee once the salary midpoint of a pay band is crossed. This rule would apply to all employees in every career path and pay band.

11. Awards

To provide additional flexibility in motivating and rewarding individuals and groups, some portion of the performance award budget may be reserved for special acts and other categories as they occur. Awards may include, but are not limited to special acts, patents, suggestions, on-the-spot, and time-off. The funds available to be used for awards are separately funded within the constraints of the organization's overall award budget.

While not directly linked to the PFP system, this additional flexibility is important to encourage outstanding accomplishments and innovation in accomplishing the diverse modernization missions of the AFC STRL organizations participating in Mod Demo. Additionally, to foster and encourage teamwork among its employees, organizations may give group awards.

12. General Pay Increase (GPI)

All employees will receive a GPI, except as described below.

Employees, who are on a PIP and/or receive a Level 1 rating of record at the time pay determinations are made, may be denied performance payouts or the GPI. Such employees will not receive RIF service credit until such time as their performance improves to the satisfactory level and remains so for at least 90 days. When the employee has performed at an acceptable level for at least 90 days, the GPI will not be retroactive but will be granted at the beginning of the next pay period after the supervisor authorizes its payment.

These actions may result in a base salary that is identified in a lower pay band. This occurs because the minimum rate of basic pay in a pay band increases as the result of the GPI (5 U.S.C. 5303). This situation (a reduction in pay band with no reduction in pay) will not be considered an adverse action, nor will pay band retention provisions apply.

After 90 days of acceptable performance the employee is granted GPI and the employee will be returned to the employee's previous pay band.

13. Grievances and Disciplinary Actions

An employee may grieve the performance rating/score or shares received under the PFP system. Non-bargaining unit employees, and bargaining unit employees covered by a negotiated grievance procedure that does not permit grievances over performance ratings, must file under administrative grievance procedures when choosing to pursue a grievance. Whereas, bargaining unit employees whose negotiated grievance procedures cover performance-rating grievances must file under those negotiated procedures when choosing to pursue a grievance.

Except where specifically waived or modified in this plan, adverse action procedures under 5 CFR part 752, remain unchanged.

E. Hiring and Appointment Authorities

Competitive service positions will be filled through Merit Staffing, direct-hire authority, Delegated Examining, or other non-competitive hiring authorities. Direct-hire authority will be exercised in accordance with the requirements of the delegation of authority.

1. Qualifications

A candidate's basic qualifications will be determined using OPM's Qualification Standards Handbook for General Schedule Positions. Candidates must meet the minimum standards for entry into the pay band, unless waived by other flexibilities within the STRL. For example, if the pay band includes positions in grades GS-5 and GS-7, the candidate must meet the qualifications for positions at the GS-5 level. Specialized experience/education requirements will be determined based on whether a position to be filled is at the lower or higher end of the pay band. Selective placement factors can be established in accordance with the OPM Qualification Handbook, when judged to be critical to successful job performance. These factors will be communicated to all candidates for position vacancies and must be met for basic eligibility.

2. Delegated Examining

Under Delegated Examining when there are no more than 15 qualified applicants and no preference eligible, all eligible applicants are immediately referred to the selecting official without rating and ranking. Rating and ranking may occur when the number of qualified candidates exceeds 15 or there is a mix of preference and non-preference applicants. Category rating may be used to provide for a more streamlined and responsive hiring system to increase the number of eligible candidates referred to selecting officials. This provides for the grouping of eligible candidates into quality categories and the elimination of consideration according to the “rule of three.” This includes the coordination of recruitment and public notices, the administration of the examining process, the administration of veterans' preference, the certification of candidates, and selection and appointment consistent with merit principles.

Statutes and regulations covering veterans' preference will be observed in the selection process when rating and ranking are required. Veterans with preference will be referred ahead of non-veterans with the same score/category.

3. Direct Hire

AFC STRL will use the direct hire authorities authorized by 10 U.S.C. 4091, and published in 79 FR 43722 and 82 FR 29280; and the direct hire authorities published in 85 FR 78829, as appropriate, to appoint the following:

a. Candidates with advanced degrees to scientific and engineering positions;

b. Candidates with bachelor's degrees to scientific and engineering positions;

c. Veteran candidates to scientific, technical, engineering, and mathematics positions (STEM), including technicians;

d. Student candidates enrolled in a program of instruction leading to a bachelors or advanced degree in a STEM discipline; and

e. Candidates for any position: (i) involving 51 percent or more of time in direct support of the STRL mission; (ii) identified by the STRL as hard to fill; (iii) having a history of high turnover; or (iv) requiring a unique, laboratory-related skillset.

Direct hire appointments may be made on a permanent, term or temporary basis. Requirements for how positions qualify for this usage of direct hire authorities will be documented in IOPs.

In addition, other direct hire authorities, documented in FRNs and available to all DoD STRL laboratories, may be utilized, once requested, and adopted, as appropriate.

4. Legal Authority

For actions taken under the auspices of the demonstration project, the first legal authority code (LAC)/legal authority Z2U will be used. The second LAC/legal authority may identify the authority utilized (e.g., Direct Hires). The nature of action codes and legal authority codes prescribed by OPM, DoD, or DA will be used.

5. Hiring Demonstrated Exceptional Talent for S&E Positions

As provided by OPM General Schedule Qualification Standards, paragraph 4.g., in the “Application of Qualification Standards” section, “Educational and Training Provisions or Requirements” subsection, AFC STRL may consider an S&E position candidate's demonstrated exceptional experience or a combination of experience and education in lieu of OPM individual occupational qualification requirements. The AFC STRL may use one SME, instead of a panel of at least two, to conduct a comprehensive evaluation of an applicant's entire background, with full consideration given to both education and experience, to determine a candidate's qualifications. In addition, the unique nature of AFC STRL interdisciplinary positions allows for an AFC STRL manager with direct knowledge of the mission and position requirements, regardless of his or her occupational series or military occupation code, to serve as a SME to represent the needs of the organization.

Demonstrated exceptional experience is defined as experience that reflects significant accomplishment directly applicable to the position to be filled. This is evidenced through a substantial record of experience, achievement, and/or publications that demonstrate expertise in an appropriate professional/scientific field. A written analysis by the SME will document the candidate's experience, achievements, and publications used for qualification determination.

Documentation justifying the employee's qualifications will be placed in the employee's electronic official personnel file (e-OPF) to ensure the employee is considered qualifying for the specific occupational series in the future.

6. Official Transcripts

The requirement to have official transcripts prior to entrance-on-duty (EOD) is waived. AFC STRL servicing personnel offices may use unofficial transcripts or a letter from a registrar or dean to make qualification determinations, thus eliminating several days or weeks from the current hiring timeline. Official transcripts must be received within 30 calendar days after EOD.

Once unofficial transcripts or a letter from a registrar or dean is received, the servicing personnel office will review qualifications and begin the onboarding process. Applicants will be asked to request and submit official transcripts to the servicing personnel office, but an EOD may be established prior to receipt. Applicants will sign a statement of understanding (SOU) as part of their pre-employment paperwork. The SOU will include language stipulating that if official transcripts are not provided or fail to show proof that individuals meet the qualification requirements, individuals may be subject to adverse actions up to and including removal, as determined by specific circumstances by applicable regulations. The SOU will regulate the applicants who do not have the degrees required for the positions or who may have been dishonest during the hiring process, lowering risk for the Command.

The SOU will be maintained in the employee's e-OPF. Once official transcripts have been received by the servicing personnel office, they will be verified in the personnel system and uploaded into the employee's e-OPF.

7. Use of USAJobs Flyers

AFC STRL will have authority to determine when to utilize USAJobs flyers to solicit for AFC STRL positions. Applications may be submitted directly to the servicing personnel office. Candidates may apply through the link or email address found in the flyer. Postings may be open to internal Government employees and external U.S. citizen candidates. All candidates will be asked to submit supporting documentation, including a resume and official or unofficial transcripts. Flyers will include the following (a) open/close dates, (b) compensation, (c) appointment type and work schedule, (d) duty location, (e) duties, (f) position information, (g) conditions of employment, (h) qualification requirements, (i) education requirements, (j) how candidates will be evaluated, (k) benefits, (l) how to apply, (m) an equal employment opportunity statement, and (n) any additional information determined necessary by the lab.

Positions may be filled through direct hire authorities on a temporary, term, or permanent basis or through reassignment utilizing the USAJobs flyer.

8. Security Eligibility

AFC STRL has the authority to appoint individuals to Critical-Sensitive (CS) and Special-Sensitive positions prior to a final favorable eligibility determination at the Top Secret/SCI level. Processes and pre-employment waiver requirements for CS positions will be applied in these situations. For the purposes of STRLs, an emergency or national interest that necessitates an appointment prior to the completion of the investigation and adjudication process includes a lab's inability to meet mission requirements. Each applicant's Standard Form 86, “Questionnaire for National Security Positions,” fingerprints, and prescreening questionnaire will be reviewed, and a favorable pre-screening eligibility determination will be made prior to any individual being given a final job offer and EOD. Also, each lab will provide the written documentation needed to support a waiver decision to the appointing authority, who will document the reason for the appointment, and ensure the justification is sufficient before a final offer of employment is made.

Individuals will perform duties and occupy a location permitted by their current security eligibility (interim or final), but not higher than Top Secret. The applicant will be required to sign a statement of understanding that documents that the pre-appointment decision was made based on limited information and that continued employment depends upon the completion of a personnel security investigation (tier 3 or 5) and favorable adjudication of the full investigative results.

9. Term Appointments

F. Flexible Length and Renewable Term Technical Appointments (FLRTTA)

1. AFC STRL organizations may use the FLRTTA workforce shaping tool to appoint qualified candidates who are not currently DoD civilian employees, or are currently DoD term employees, into any scientific, technical engineering, and mathematic positions, including technicians, for a period of more than one year but not more than six years. The appointment of any individual under this authority may be extended without limit in up to six-year increments at any time during any term of service under conditions set forth in Mod Demo IOPs.

2. Use of the FLRTTA authority must be consistent with merit system principles.

3. Current DoD employees who are not DoD term employees may not be appointed to positions under this authority.

4. Initial appointments must be more than one year, but not to exceed six years in duration.

5. Individuals appointed under this authority may be eligible for noncompetitive conversion to a permanent appointment if the job opportunity announcement clearly stated the possibility of being made permanent.

6. Positions may be filled utilizing noncompetitive hiring authorities. Positions appointed noncompetitively will not be eligible for conversion or extension. This is not a hiring authority and STRLs must compete or use a direct hire or other non-competitive hiring authority to appoint candidates under this appointment authority.

7. Unless otherwise eligible for a noncompetitive hiring authority, positions filled under this authority must be competed. Job opportunity announcements must clearly identify the type of appointment and the expected duration of initial appointment (up to six years). A statement will be included in the announcement that the position may be extended, without limit, in up to six-year increments, to enable extensions beyond the initial term of appointment. Furthermore, the position can be made permanent without further competition.

8. Appointees will be afforded equal eligibility for employee programs and benefits comparable to those provided to similar employees on permanent appointments within the AFC STRL, including opportunities for professional development and eligibility for award programs.

9. Appointees will be afforded the opportunity to apply for vacancies that are otherwise limited to “status” candidates. Appointees applying to other Federal service positions utilizing this authority must submit a copy of their Flexible Length and Renewable Term Technical appointment SF-50, Notification of Personnel Action, which will contain a remark identifying this provision, with their application/resume for the vacancy to which they are applying. The SF-50 will serve as notification to the servicing Human Resources Office for the vacancy that the individual is eligible for consideration as a status candidate.

10. Promotions. Individuals appointed under this hiring authority may be promoted while serving on a term appointment, provided they meet the qualifications and eligibility requirements for the higher level to which they will be promoted.

11. Extension of appointments. The appointment of an individual appointed to a term appointment under this authority may be extended, without limit, in up to six-year increments. The original recruitment notice must have identified the opportunity for an extension beyond the initial term of appointment. Extensions will be documented via a personnel action using nature of action code 765/Extension of Term Appt NTE and the same legal authority code used for the appointment that is being extended.

12. Expiration. Term appointments expire upon the not-to-exceed date, unless extended.

13. Probationary/Trial Period. The trial period specified in this FRN will apply to individuals appointed under the Flexible Length and Renewable Term Appointment.

14. Tenure. For those appointed under the Flexible Length and Renewable Term Technical Appointment authority or converted from a term or modified term to a Flexible Length and Renewable Term Technical Appointment and later converted to a career or career-conditional appointment, the time spent on both appointments will count toward career tenure.

15. Documenting Personnel Actions. Personnel actions for qualified candidates are documented citing the first legal authority code (LAC)/legal authority as Z2U, if appointed to a broad-banded position. A remark for the personnel action will be created to state the appointment is designated as a “status” appointment for the purposes of eligibility for applying for positions in the federal service.

G. Flexible Length and Renewable Term Appointments for Support Positions (FLRTA)

1. AFC STRL organizations are authorized to use FLRTA to appoint qualified candidates, whose positions involve 51 percent or more of time spent in direct support of STRL activities, for a period of more than one year but not more than six years. The appointment of any individual under this authority may be extended without limit in up to six-year increments at any time during any term of service under conditions set forth in Mod Demo IOPs. The FLRTTA provisions described above also apply to appointments made under this authority.

2. Term appointments, for the purposes of this authority, are non-status appointments to a position in the competitive service for a specified period of more than one year; however, incumbents may compete as “status candidates” for the purpose of eligibility for positions in the Federal service.

3. Qualified candidates are defined as individuals who meet the minimum qualification standards for the position as published in the OPM Qualification Standard or Mod Demo qualification standards specific to the position to be filled.

1. Extended Probationary or Trial Period

At the discretion of the AFC STRL organizations, the probationary period for DoD employees may be extended to three years for all newly hired permanent career-conditional employees, and trial periods for term appointments may also be extended to three years, as documented in Mod Demo IOPs. The purpose of extending the probationary period is to allow supervisors adequate time to fully evaluate an employee's ability to complete cycles of work and to fully assess an employee's contribution and conduct. Other than described herein, the probationary period will apply to employees as stated in 5 CFR part 315.

Aside from extending the time period, all other features of the current probationary or trial period are retained, including the requirements for determining creditable service as described in 5 CFR 315.802(c), and the potential to remove an employee without providing the full substantive and procedural rights afforded a non-probationary employee when the employee fails to demonstrate proper conduct, competency, and/or adequate contribution during the extended probationary period. When terminating probationary or trial employees, AFC STRL organizations will provide employees with written notification of the reasons for their separation and effective date of the action.

Probationary employees may be terminated when they fail to demonstrate proper conduct, technical competency, and/or acceptable performance for continued employment, and for conditions arising before employment.

2. Supervisory Probationary Periods

Supervisory probationary periods will be consistent with 5 CFR part 315, subpart I. Existing Federal employees who are competitively selected or reassigned to a supervisory position will be required to complete a supervisory probationary period for initial appointment to a supervisory position. At the discretion of the AFC STRL organizations, the probationary period for supervisory employees may be up to two years. Additional requirements will be outlined in Mod Demo IOPs.

3. Reemployment of Annuitants

AFC STRL will use the authorities provided by 5 U.S.C. 9902(g) to appoint reemployed annuitants, as appropriate. In addition, AFC STRL organizations may approve the appointment of reemployed annuitants and determine the salary of an annuitant reemployed under this authority, including whether the annuitant's salary will be reduced by any portion of the annuity received, up to the amount of the full annuity, as a condition of reemployment.

a. AFC STRL organizations will apply the authority to appoint annuitants in accordance with this FRN, DoDI 1400.25-V300 and Army guidance, except as stated above. Use of the authority must be consistent with merit system principles.

b. Documenting Personnel Actions. For actions taken under the auspices of the demonstration project, the first legal authority code (LAC)/legal authority Z2U. The second LAC/legal authority may identify the authority utilized (e.g., Direct Hires). The nature of action codes and legal authority codes prescribed by OPM, DoD, or DA will be used.

c. AFC STRL organizations will publish implementing guidance and procedures on the use of this reemployed annuitant flexibility in Mod Demo IOPs.

d. Annuitants retired under 5 U.S.C. 8336(d)(1) or 8414(b)(1)(A) who are reemployed will retain the rights provided in accordance with 5 U.S.C. 9902(g)(2)(A).

4. Student Loan Repayment

AFC STRL may provide student loan repayment options authorized in 85 FR 78829 that are in line with current tuition costs and may be adjusted based on inflation without higher level approval. This authority provides the AFC STRL the ability to repay all, or part of, an outstanding qualifying student loan or loans previously taken out by a current AFC STRL Mod Demo employee or candidate to whom an offer of employment has been made. The amount of student loan repayment benefits provided by an AFC STRL organization is subject to both of the following limits:

a. Up to $25,000 per employee per calendar year.

b. Up to $125,000 per employee.

The USD(R&E) may increase these amounts when deemed necessary to stay competitive with private industry and academia. Eligibilities, conditions, qualifying student loans, and required service agreements remain the same as found in 5 CFR part 537. Loan payments made by an AFC STRL organization under this part do not exempt an employee from his or her responsibility and/or liability for any loan(s) the individual has taken out. The employee is responsible for any income tax obligations resulting from the student loan repayment benefit.

F. Volunteer Emeritus and Expert Program (VEP)

AFC STRL will have the authority to offer voluntary assignments to former Federal employees who have retired or separated from the Federal service and U.S. citizens who are retired, separated, or on sabbatical from private or public sector organizations. Volunteer emeritus will ensure continued quality research while reducing the overall salary line by allowing higher paid individuals to accept retirement incentives with the opportunity to retain a presence in the scientific community. Volunteer experts will bring commercial sector or public sector knowledge and experience into AFC STRL. Volunteers will not be used to replace any government personnel or interfere with their career opportunities. Volunteers may not be used to replace or substitute for work performed by government personnel occupying positions required to perform the AFC STRL's mission. Volunteer assignments are not considered “employment” by the Federal government (except as indicated below).

To be accepted as a volunteer, an individual must be a U.S. citizen and must be recommended by an AFC STRL manager to the AFC STRL organization approval authority. No one is entitled to participate in the program, and an application to the program does not guarantee acceptance into the program or assignment at AFC STRL. AFC STRL organizations must clearly document the decision process and decision rationale for each volunteer applicant (regardless of whether the applicant is accepted or rejected from the program) and must retain this documentation throughout the assignment (for accepted applicants), or for two years (for rejected applicants). Volunteer participants will not be permitted to perform any inherently governmental function or to participate in any contracts or solicitations for which the participant has a conflict of interest. Volunteer participants are not permitted to participate in contract source selections, nor are they permitted to have access to contractor bid or proposal information or source selection information, or to data or information that is protected by the Trade Secrets Act (18 U.S.C. 1905) without a written agreement between the volunteer and the owner of the data or information.

To ensure success and encourage participation, the volunteer Emeritus' Federal retirement pay (whether military or civilian) will not be affected while serving in a volunteer capacity. Retired or separated Federal employees may accept an emeritus position without a break or mandatory waiting period.

An agreement will be established between the volunteer and the AFC STRL organization. The agreement will be reviewed by the servicing legal office. The agreement must be finalized before the assumption of duties and will include:

(1) A statement that the voluntary assignment does not constitute an appointment in the civil service and is without compensation, and any and all claims against the Government (because of the voluntary assignment) are waived by the volunteer;

(2) A statement that the volunteer will be considered a Federal employee solely for the purpose of:

• 18 U.S.C. 201, 203, 205, 207, 208, 209, 603, 606, 607, 643, 654, 1905, and 1913;

• 31 U.S.C. 1343, 1344, and 1349(b);

• 5 U.S.C. chapters 73 and 81;

• The Ethics in Government Act of 1978;

• 41 U.S.C. chapter 21;

• 28 U.S.C. chapter 171 (tort claims procedure), and any other Federal tort liability statute;

• 5 U.S.C. 552a (records maintained on individuals)

(3) The volunteer's work schedule;

(4) The length of the agreement (defined by length of project or time defined by weeks, months, or years);

(5) The support to be provided by the AFC STRL organization (travel, administrative, office space, supplies);

(6) The volunteer's duties;

(7) A provision allowing either party to void the agreement with at least two working days' written notice;

(8) A provision that states no additional time will be added to a volunteer's service credit for such purposes as retirement, severance pay, and leave as a result of being a participant in the VEP;

(9) The level of security access required (any security clearance required by the assignment will be managed by the AFC STRL organization while the participant is a member of the VEP);

(10) A provision that any written products prepared for publication that are related to VEP participation will be submitted to the AFC STRL organization for review and must be approved prior to publication;

(11) A statement that the volunteer accepts accountability for loss or damage to Government property occasioned by the volunteer's negligence or willful action;

(12) A statement that the activities of the volunteer on the premises will conform to the regulations and requirements of the organization;

(13) A statement that the volunteer will not improperly use or disclose any non-public information, including any pre-decisional or draft deliberative information related to DoD programming, budgeting, resourcing, acquisition, procurement, or other matter, for the benefit or advantage of the volunteer or any non-Federal entities. Volunteers will handle all non-public information in a manner that reduces the possibility of improper disclosure;

(14) A statement that the volunteer agrees to disclose any inventions made in the course of work performed for AFC STRL. AFC STRL will have the option to obtain title to any such invention on behalf of the U.S. Government. Should the AFC CG elect not to take title, AFC will retain a non-exclusive, irrevocable, paid up, royalty-free license to practice or have practiced the invention worldwide on behalf of the U.S. Government;

(15) A statement that the volunteer must complete either a Confidential or Public Financial Disclosure Report, whichever applies; a disqualification statement prohibiting the volunteer from working on matters related to his or her former employer; and ethics training in accordance with Office of Government Ethics regulations prior to implementation of the written agreement; and

(16) A statement that the volunteer must receive post-government employment advice from a DoD ethics counselor at the conclusion of program participation. Volunteers are deemed Federal employees for purposes of post-government employment restrictions.

A written Memorandum of Agreement (MOA) between the AFC STRL organization and the volunteer is required and must include all items above, regardless of format used. The use and wording of the MOA will be provided in the IOPs of the AFC STRL organizations.

G. Internal Placement

1. Promotion

A promotion is the movement of an employee to a higher pay band in the same career path or to another career path, wherein the pay band in the new career path has a higher maximum base pay than the pay band from which the employee is moving. Positions with known promotion potential to a specific pay band within a career path will be identified when they are filled. Movement from one career path to another will depend upon individual competencies, qualifications, and the needs of the organization. Salary progression within a pay band is not considered a promotion and not subject to the provisions of this section. Except as specified below, promotions will be processed under competitive procedures in accordance with Merit System Principles and requirements of the local merit promotion plan.

To be promoted competitively or non-competitively from one pay band to the next, an employee must meet the minimum qualifications for the job and may not have a Level 1 rating of record. If an employee does not have a current performance rating, the employee will be treated the same as an employee with a Level 2 rating of record as long as there is no documented evidence of unacceptable performance.

2. Reassignment

A reassignment is the movement of an employee from one position to a different position within the same career path and pay band or to another career path and pay band wherein the pay band in the new career path has the same maximum base pay. The employee must meet the qualification requirements for the career path and pay band.

3. Placement in a Lower Pay Band or Grade

An employee may be placed in a lower pay band within the same career path or placement into a pay band in a different career path with a lower maximum base pay. This change may be voluntary based on a request from the employee or involuntary, for cause (performance or conduct) or for reasons other than cause (e.g., erosion of duties, reclassification of duties to a lower pay band, placement actions resulting from RIF procedures). Involuntary actions will be executed using the applicable adverse action procedures in 5 U.S.C. chapter 43 or chapter 75.

4. Simplified Assignment Process

Today's environment of remote work and fluctuating budgets, workforce and workload require that the organization have maximum flexibility to assign duties and responsibilities to individuals. Pay banding can be used to address this need, as it enables the organization to have maximum flexibility to assign an employee with no change in base pay, within broad descriptions, consistent with the needs of the organization and the individual's qualifications, and level. Subsequent assignments to projects, tasks, or functions anywhere within the organization requiring the same level, area of expertise, and qualifications would not constitute an assignment outside the scope or coverage of the current position description. For instance, a Research Psychologist could be assigned to any project, task, or function requiring similar expertise. Likewise, a manager/supervisor could be assigned to manage any similar function or organization consistent with that individual's qualifications. This flexibility allows broader latitude in assignments and further streamlines the administrative process and system. Execution of such actions may require fulfilling labor obligations, where applicable.

5. Details and Expanded Temporary Promotions

Employees may be detailed to a position at the same or similar level (position in a pay band with the same maximum salary). Additionally, employees may be temporarily promoted to a position in a pay band with a higher maximum salary. Details and temporary promotions may be competitive or non-competitive under the AFC STRL Mod Demo and may last up to one year, with the option to extend an additional year. Employees selected non-competitively for details and temporary promotions may only serve in those assignments for a total of two years out of every thirty months. An employee may be detailed to a position without a change in pay or may be provided a base pay increase when the detail significantly increases the complexity of the duties, level of responsibility, or authority, or for other compelling reasons. Such an increase is subject to the specific guidelines established by AFC STRL organizations as published in their IOP's. Details and temporary promotions may be determined by a competitive or a non-competitive process.

6. Exceptions to Competitive Procedures for Assignment to a Position

The following actions are excepted from competitive procedures:

a. Re-promotion to a position which is in the same pay band or GS equivalent and career path as the employee previously held on a permanent basis within the competitive service.

b. Promotion, reassignment, change to lower pay band, transfer, or reinstatement to a position having promotion potential no greater than the potential of a position an employee currently holds or previously held on a permanent basis in the competitive service.

c. A position change permitted by RIF procedures.

d. Promotion without current competition when the employee was appointed through competitive procedures to a position with a documented career ladder.

e. A temporary promotion, or detail to a position in a higher pay band, of two years or less.

f. A promotion due to the reclassification of positions based on accretion (addition) of duties.

g. A promotion resulting from the correction of an initial classification error or the issuance of a new classification standard.

h. Consideration of a candidate who did not receive proper consideration in a competitive promotion action.

H. Pay Setting

1. General

Pay administration policies will be established by the AFC STRL organizations. These policies will be exempt from Army Regulations or local pay fixing policies. Employees whose performance is acceptable will receive the full annual GPI and the full locality pay. AFC STRL organizations shall have delegated authority to make full use of recruitment, retention, and relocation payments as currently provided for by OPM.

2. Pay and Compensation Ceilings

A demonstration project employee's total monetary compensation paid in a calendar year may not exceed the base pay of Level I of the Executive Schedule consistent with 5 U.S.C. 5307 and 5 CFR part 530 subpart B, except employees placed in an SSTM position. In addition, each pay band will have its own pay ceiling, just as grades do in the GS system. Base pay rates for the various pay bands will be directly tied to the GS rates, except as noted for S&E Level V (SSTMs). Other than where a retained rate applies, base pay will be limited to the maximum base pay payable for each pay band.

The minimum basic pay for SSTM positions is 115 percent of the minimum rate of basic pay for GS-15. Maximum SSTM basic pay with locality pay is limited to Executive Level III (EX-III), and maximum salary without locality pay may not exceed EX-IV. SSTMs are eligible for pay retention as described in 79 FR 43727.

3. Pay Setting for Appointment

For initial appointments to Federal service, the individual's pay may be set at the lowest base pay in the pay band or anywhere within the pay band consistent with the special qualifications of the individual, specific organizational requirements, the unique requirements of the position, or other compelling reasons. These special qualifications may be in the form of education, training, experience, or any combination thereof that is pertinent to the position in which the employee is being placed. Guidance on pay setting for new hires will be documented in IOPs.

4. Pay Setting for Promotion

The minimum base pay increase upon promotion will be six percent or the minimum base pay rate of the new pay band, whichever is greater. The maximum amount of a pay increase for a promotion may be up to the top of the pay band consistent with the special qualifications of the individual, specific organizational requirements, the unique requirements of the position, or other compelling reason. Additional criteria will be specified in the IOPs. For employees assigned to occupational categories and geographic areas covered by special rates, the minimum base pay is the minimum rate in the pay band or the corresponding special rate or locality rate, whichever is greater. For employees covered by a staffing supplement as described in Paragraph III.G.9 below, the demonstration staffing supplement adjusted pay is considered base pay for promotion calculations.

When a temporary promotion is terminated, the employee's pay entitlements will be re-determined based on the employee's position of record, with appropriate adjustments to reflect pay events during the temporary promotion, subject to the specific policies and rules established in Mod Demo IOPs. In no case may those adjustments increase the base pay for the position of record beyond the applicable pay range maximum base pay rate.

5. Pay Setting for Reassignment

A reassignment may be made without a change in the employee's base pay. However, up to ten percent base pay increase may be granted where a reassignment significantly increases the complexity, responsibility, authority, or for other compelling reasons subject to the specific guidelines established in Mod Demo IOPs. In no case may those adjustments increase the base pay for the position of record beyond the applicable pay range maximum base pay rate.

6. Pay Setting for Change to Lower Pay Band

Employees subject to an involuntarily change to lower pay band for cause (performance or conduct) or voluntary change to lower pay band (request or selection to new position) are not entitled to pay retention and may receive a decrease in base pay. Employees subject to an involuntary change to a lower pay band for reasons other than cause (e.g., erosion of duties, reclassification of duties to a lower pay band, or placement actions resulting from RIF procedures) may be entitled to pay retention in accordance with the provisions of 5 U.S.C. 5363, 5 CFR part 536, and DoDI 1400.25 Vol 536, except as waived or modified in section IX of this plan.

7. Supervisory and Team Leader Pay Adjustments

Supervisory and team leader pay adjustments may be approved based on the rules established in Mod Demo IOPs, to compensate employees with supervisory or team leader responsibilities. Supervisory and team leader pay adjustments are a tool that may be implemented at the discretion of the AFC STRL organization and are not to be considered an employee entitlement due solely to his/her position as a supervisor or team leader. Only employees in supervisory or team leader positions as defined by the OPM GS Supervisory Guide or GS Leader Grade Evaluation Guide may be considered for the pay adjustment. Pay adjustments are increases to base pay, ranging up to 10 percent of that pay rate for supervisors and for team leaders, and are subject to the constraint that the adjustment may not cause the employee's base pay to exceed the maximum of the pay band. Pay adjustments are funded separately from performance pay pools.

A supervisory/team leader pay adjustment may be considered under the following conditions:

a. A career employee selected for a supervisory/team leader position may be considered for a base pay adjustment. If a supervisor/team leader is already receiving a base pay adjustment and is subsequently selected for another supervisor/team leader position, then the base pay adjustment will be re-determined.

b. The supervisory/team leader pay adjustment will be reviewed annually, or more often as needed, and may be increased or decreased by a portion or by the entire amount of the supervisory/team leader pay adjustment based upon the employee's performance appraisal score. If the entire portion of the supervisory/team leader pay adjustment is to be decreased, the initial dollar amount of the supervisory/team leader pay adjustment will be removed. A decrease to the supervisory/team leader pay adjustment as a result of the annual review or when an employee voluntarily leaves a position is not an adverse action and is not subject to appeal.

All personnel actions involving a supervisory/team leader pay adjustment will require a statement signed by the employee acknowledging that the pay adjustment may be terminated or reduced at the discretion of the organization or will cease when an employee leaves a supervisory position. The cancellation of the adjustment is not an adverse action and is not appealable.

8. Supervisory/Team Leader Pay Differentials

Supervisory and team leader pay differentials may be used to provide an incentive and reward supervisors and team leaders. Supervisory and team leader pay differentials are a tool that may be implemented at the discretion of the AFC STRL organization and are not entitlements due to employees based on their position. A pay differential is a cash incentive that may range up to 10 percent of base pay for supervisors and for team leaders. It is paid on a pay period basis with a specified not-to-exceed (NTE) of one year or less and is not included as part of the base pay. Criteria to be considered in determining the amount of the pay differential will be identified in the AFC organization IOP. Pay differentials are not funded from performance pay pools.

For SSTM personnel, this incentive may range up to five percent of base pay (excluding locality pay). The SSTM supervisory pay differential is paid on a pay period basis with a specified not-to-exceed date up to one year and may be renewed as appropriate.

The supervisory pay differential may be considered, either during conversion into or after initiation of the AFC STRL Mod Demo. The differential must be terminated if the employee is removed from a supervisory position, regardless of cause, or no longer meets established eligibility criteria.

All personnel actions involving a supervisory/team leader differential will require a statement signed by the employee acknowledging that the differential may be terminated or reduced at the discretion of the organization. The termination or reduction of the supervisory differential is not considered an adverse action under 5 U.S.C. chapter 75 and is not subject to appeal with the Merit Systems Protection Board.

9. Staffing Supplements

Employees assigned to occupational categories and geographic areas covered by special rates will be entitled to a staffing supplement if the maximum adjusted rate for the banded GS grades to which assigned is a special rate that exceeds the maximum GS locality rate for the banded grades. The staffing supplement is added to the base pay, much like locality rates are added to base pay. For employees being converted into the demonstration project, total pay immediately after conversion will be the same as immediately before, but a portion of the total pay will be in the form of a staffing supplement. Adverse action and pay retention provisions will not apply to the conversion process, as there will be no change in total salary. Specific provisions will be described in Mod Demo IOPs.

10. Grade and Pay Retention

Grade retention provisions under 5 U.S.C. 5362 and 5 CFR part 536 will not be applicable to the AFC STRL Mod Demo. For purposes of actions within the AFC STRL Mod Demo that provide entitlement to pay retention, the provisions of 5 U.S.C. 5363 and 5 CFR part 536 apply, except as waived or modified in section IX of this FRN. Wherever the term “grade” is used in the law or regulation, the term “pay band” will be substituted. The AFC STRL Mod Demo organizations may grant pay retention to employees who meet general eligibility requirements, but do not have specific entitlement by law, provided they are not specifically excluded.

11. Distinguished Contribution Allowance (DCA) the Distinguished Contribution

Allowance may be used by AFC STRL organizations to provide an increased capability to recognize and incentivize employees who are:

(a) Consistently extremely high-level performers, and

(b) Paid at the top of their pay band level.

Eligibility for DCA is open to employees in all career paths. A DCA, when added to an employee's pay (including locality pay and any supervisory differential), may not exceed the rate of basic pay for Executive Level I. DCA is paid on either a bi-weekly basis or as a lump sum following completion of a designated performance period, or combination of these. DCA is not an entitlement and is used at the discretion of AFC STRL organization to reward and retain high performing employees. DCA is not base pay for any purpose, such as retirement, life insurance, severance pay, promotion, or any other payment or benefit calculated as a percentage of base pay. Employees may receive a DCA for up to five years but not more than 10 cumulative years over an employee's entire career. The DCA will be reviewed on an annual basis for continuation or termination. Further details will be published in Mod Demo IOPs.

12. Accelerated Compensation for Developmental Positions (ACDP)

The AFC STRL Mod Demo organizations may authorize an increase to basic pay for employees participating in training programs, internships, or other development capacities. This may include employees in positions that cross bands within a career path (formally known as career ladder positions) or developmental positions within a band. ACDP will be used to recognize development of job-related competencies as evidenced by successful performance within AFC STRL Mod Demo. Additional guidance will be published in an IOP.

13. Supplemental Pay

AFC STRL organizations may establish supplemental pay rates to be paid bi-weekly, as other pay, for those positions which warrant higher compensation than that provided by the established pay band salary ranges, STRL staffing supplements or differentials, or other recruitment or retention authorities. AFC STRL organizations may establish supplemental pay rates by occupational series, specialty, competency, pay band level, and/or geographical area. In establishing such rates, AFC STRL organizations may consider: Rates of pay offered by non-Federal or other alternative pay system employers that are considerably higher than rates payable by the AFC STRL organization; the remoteness of the area or location involved; the undesirability of the working conditions or nature of the work involved; evidence that the position is of such a specialized nature that very few candidates exist; numbers of employees who have voluntarily left positions; evidence to support a conclusion that recruitment or retention problems likely will develop (if such problems do not already exist) or will worsen; consideration of use of other pay flexibilities as well as the use of non-pay solutions; or any other circumstances the AFC STRL organization considers appropriate. Documentation of the determination will be maintained by the AFC STRL organization.

This supplemental pay is in addition to any other pay, such as locality-based comparability payments authorized under 5 U.S.C. 5304 and may result in compensation above Level IV of the Executive Schedule but may not exceed Level I of the Executive Schedule.

The AFC STRL organizations have an ongoing responsibility to evaluate the need for continuing payment of the supplemental pay and shall terminate or reduce the amount if conditions warrant. Conditions to be considered are: changes in labor-market factors; the need for the services or skills of the employee has reduced to a level that makes it unnecessary to continue payment at the current level; or budgetary considerations make it difficult to continue payment at the current level. The reduction or termination of the payment is not considered an adverse action and may not be appealed or grieved. The applicant or employee will sign a statement of understanding outlining that the supplement may be reduced or terminated at any time based on conditions as determined by the AFC STRL organization. The documentation of the determination will be maintained by the AFC STRL organization.

14. Retention Counteroffers

The AFC STRL organizations may offer a retention counteroffer to retain high performing employees in scientific, technical, or administrative positions who present evidence of an alternative employment opportunity (Federal or non-Federal organizations) with higher compensation. Such employees may be provided increased base pay (up to the ceiling of the pay band) and/or a one-time cash payment that does not exceed 50 percent of one year of base pay. This flexibility addresses the expected benefits described in paragraph II.C, particularly “increased retention of high-quality employees.” Retention allowances, either in the form of a base pay increase and/or a bonus, count toward the Executive Level I aggregate limitation on pay consistent with 5 U.S.C. 5307, and 5 CFR part 530, subpart B. Further details will be published in Mod Demo IOPs.

I. Employee Development

1. Training for Degrees

Degree training is an essential component of an organization that requires continuous acquisition of advanced and specialized knowledge. Degree training in the academic environment of laboratories is also a critical tool for recruiting and retaining employees with critical skills. Constraints under current law and regulation limit degree payment to shortage occupations. In addition, current government-wide regulations authorize payment for degrees based only on recruitment or retention needs. Degree payment is currently not permitted for non-shortage occupations involving critical skills.

AFC STRL organizations may expand the authority to provide degree training for purposes of meeting critical skill requirements, to ensure continuous acquisition of advanced and specialized knowledge essential to the organization, or to recruit and retain personnel critical to the present and future requirements of the organization. It is expected that the degree payment authority will be used primarily for attainment of advanced degrees. AFC STRL organizations will document guidelines and rules for using this authority in Mod Demo IOPs.

2. Sabbaticals

AFC Mod STRL organizations may grant paid sabbaticals to career employees to permit them to engage in study or uncompensated work experience that will contribute to their development and effectiveness. Each sabbatical should benefit AFC as well as increase the employee's individual effectiveness. Examples are as follows: advanced academic teaching, study, or research; self-directed (independent) or guided study; and on-the-job work experience with a public, private, or nonprofit organization. Each recipient of a sabbatical must sign a continued service agreement and agree to serve a period equal to at least three times the length of the sabbatical. AFC STRL organizations will document guidelines and rules for using this authority in their IOPs.

J. Voluntary Early Retirement (VERA) and Voluntary Separation Incentive Pay (VSIP)

AFC STRL will use the authorities provided by 5 U.S.C. 9902(f) to offer VERA and VSIP, as appropriate. The AFC CG may:

(1) Approve the use of voluntary early retirement and separation pay incentives;

(2) Determine which categories of employees should be offered such incentives; and

(3) Determine the amount of voluntary separation incentive payments.

AFC STRL organization IOPs will contain procedures to validate and document that payment of an incentive to an employee is fully warranted and will judiciously ensure that eligibility factors specified in DoDI 1400.25, Volume 1702, “DoD Civilian Personnel Management System: Voluntary Separation Programs,” other than those waived in this FRN, are applied.

Before authorizing the use of VERA and VSIP incentives, the AFC CG must determine that the use of such incentives is necessary to shape the laboratory workforce to better fulfill mission requirements and achieve the optimum workforce balance. If the laboratory workforce is being downsized, incentives may be used to minimize the need for involuntary separations under RIF procedures. In this downsizing scenario, early retirement and/or separation incentive pay may be offered to surplus employees who would otherwise be separated through RIF or to non-surplus employees whose positions could then be used to avert the involuntary RIF separation of surplus employees.

VERA and VSIP incentives may also be used to restructure the laboratory workforce without reducing the number of assigned personnel. In this restructuring scenario, incentives may be offered for the purpose of creating vacancies that will be reshaped to align with mission objectives. Restructuring incentives are helpful in situations such as correcting an imbalance of skills or for delayering an organization.

VERA and VSIP will be administered as described in this Notice. Both authorities are authorized and may be used together or separately.

(1) Par. 2.a.(6)(b) is waived to the extent that AFC STRL organizations may utilize the vacancy to correct a skills mismatch without restructuring the position.

(2) Par. 2.a.(7) is waived to the extent that AFC STRL organizations may offer VSIP in an amount set by the AFC CG annually, without regard to the amount of severance pay employees would receive under 5 U.S.C. 5595(c) if the employees were entitled to severance pay. AFC STRL organizations will document their rationale for determining payment amounts.

(3) Par. 2.b.(3)(d) is waived to the extent that a waiver is not required for employees occupying positions defined as “hard to fill.”

(4) Par. 2.c. is waived to the extent that AFC STRL organization approval authorities may approve voluntary separation incentives for Senior Scientific Technical Managers (SSTMs). The SSTM position need not be abolished and may be restructured to meet mission requirements.

(5) Par. 2.g.(1) is waived to the extent that the AFC STRL organizations may pay up to an amount approved by the AFC CG for VSIP from appropriations or accounts available for such purposes to avoid an involuntary separation or to affect a restructuring action.

AFC STRL organizations will establish implementing guidance and procedures in their IOPs.

IV. Conversion

A. Conversion Into the Demonstration Project

Organizational conversion to the AFC STRL Mod Demo occurs when a new organization or a group of employees convert into the demonstration project. Conversion from current GS grade or other pay banding system into AFC STRL Mod Demo will be accomplished during implementation of the demonstration project. Initial entry into the demonstration project will be accomplished through a full employee-protection approach that ensures each employee an initial place in the appropriate career path and pay band without loss of pay or earning potential.

Employees are converted into a career path (i.e., DB, DE, DK) based upon their occupational series and in a pay band that includes their current grade/band. The GS-14 grade occurs in two pay bands of the S&E and B&T career paths, which are pay band III and pay band IV. The conversion of GS-14 employees will be in Pay Band IV during initial conversion into AFC STRL Mod Demo. After initial conversion, former GS-14 employees will be assigned based on classification requirements. Additional guidance will be included in AFC STRL Mod Demo IOPs, and conversion operations will be overseen by the PMB.

Under the GS pay structure, employees progress through their assigned grade in step increments. Since this system is being replaced under the demonstration project, employees will be awarded that portion of the next higher step they have completed up until the effective date of conversion.

Rules governing Within Grade Increases (WGIs) will continue in effect until conversion. Adjustments to the employee's base salary for WGI equity will be computed as of the effective date of conversion. WGI equity will be acknowledged by increasing base pay by a prorated share based upon the number of full weeks an employee has completed toward the next higher step. Payment will equal the value of the employee's next WGI multiplied by the proportion of the waiting period completed (weeks completed in waiting period/weeks in the waiting period) at the time of conversion. Employees at step 10, or receiving retained rates, on the day of implementation will not be eligible for WGI equity adjustments since they are already at or above the top of the step scale. Employees serving on retained grade will receive WGI equity adjustments provided they are not at step 10 or receiving a retained rate.

Employees serving under temporary and term appointments will be converted and may continue their temporary and term appointments up to their established, current NTE date. Extensions of temporary appointments after conversion may be extended based on original appointment and Temporary and Term guidance identified in this FRN.

Employees on a PIP will remain in their current system until the conclusion of the PIP and a decision is rendered.

Conversion rules will apply to employees who did not convert initially or who are in positions that are involuntarily reassigned to the AFC STRL Mod Demo. If conversion into the demonstration project is accompanied by a geographic move, the employee's GS pay entitlements in the new geographic area must be determined before performing the pay conversion.

The project will eliminate retained grade under 5 U.S.C. 5362 and 5 CFR part 536. At the time of conversion, an employee on grade retention will be converted to the career path and broadband level based on the assigned permanent position of record, not the retained grade, and if eligible will be placed on pay retention. Pay retention will be administered using the provisions at 5 U.S.C. 5363 and 5 CFR part 536, except as modified in the Staffing Supplements section and waived in Section IX of this plan.

Initial probationary period. Employees who have completed an initial probationary period prior to conversion will not be required to serve a new or extended initial probationary period. Employees who are serving an initial probationary period upon conversion from GS will serve the time remaining on their initial probationary period.

Supervisory probationary period. Employees who have completed a supervisory probationary period prior to conversion will not be required to serve a new or extended supervisory probationary period while in their current position. Employees who are serving a supervisory probationary period upon conversion will serve the time remaining on their supervisory probationary period.

B. Conversion or Movement From a Project Position to a General Schedule Position

If a demonstration project employee is moving to a GS position not under the demonstration project, or if the project ends and each project employee must be converted back to the GS system, the following procedures will be used to convert the employee's project career path and pay band to a GS-equivalent grade and the employee's project rate of pay to GS equivalent rate of pay.

The converted GS grade and GS rate of pay must be determined before movement or conversion out of the demonstration project and any accompanying geographic movement, promotion, or other simultaneous action. For conversions upon termination of the project and for lateral reassignments, the converted GS grade and rate will become the employee's actual GS grade and rate after leaving the demonstration project (before any other action). For employee movement from within DoD (transfers), promotions, and other actions, the converted GS grade and rate will be used in applying any GS pay administration rules applicable in connection with the employee's movement out of the project (e.g., promotion rules, highest previous rate rules, pay retention rules), as if the GS converted grade and rate were in effect immediately before the employee left the demonstration project.

1. Grade Setting Provisions

An employee in a pay band corresponding to a single GS grade is converted to that grade. An employee in a pay band corresponding to two or more grades is converted to one of those grades according to the following rules:

a. The employee's adjusted rate of basic pay under the demonstration project (including any locality payment or staffing supplement) is compared with step four rates on the highest applicable GS rate range. (For this purpose, a “GS rate range” includes a rate in (1) the GS base schedule, (2) the locality rate schedule for the locality pay area in which the position is located, or (3) the appropriate special rate schedule for the employee's occupational series, as applicable.) If the series is a two-grade interval series, odd-numbered grades are considered below GS-11.

b. If the employee's adjusted project rate equals or exceeds the applicable step four rate of the highest GS grade in the band, the employee is converted to that grade.

c. If the employee's adjusted project rate is lower than the applicable step four rate of the highest grade, the adjusted rate is compared with the step four rate of the second highest grade in the employee's pay band. If the employee's adjusted rate equals or exceeds step four rate of the second highest grade, the employee is converted to that grade.

d. This process is repeated for each successively lower grade in the pay band until a grade is found in which the employee's adjusted project rate equals or exceeds the applicable step four rate of the grade. The employee is then converted at that grade. If the employee's adjusted rate is below the step four rate of the lowest grade in the pay band, the employee is converted to the lowest grade.

e. Exception: An employee will not be converted to a lower grade than the grade held by the employee immediately preceding a conversion, lateral reassignment, or transfer from within DoD into the project, unless since that time the employee has undergone a reduction in pay band or accepted a lower pay band position.

If an employee is retaining a rate under the demonstration project, the employee's GS-equivalent grade is the highest grade encompassed in his or her pay band.

2. Equivalent Increase Determinations

Service under the AFC STRL Mod Demo is creditable for WGI purposes upon conversion back to the GS pay system. Performance pay increases (including a zero increase) under the demonstration project are equivalent increases for the purpose of determining the commencement of a WGI waiting period under 5 CFR 531.405(b).

3. Termination of Coverage Under the Demonstration Project Pay Plans

In the event employees' coverage under the AFC STRL Mod Demo pay plan is terminated, employees move with their position to another system applicable to AFC STRL employees. The grade of their demonstration project position in the new system will be based upon the position classification criteria of the gaining system. Employees may be eligible for pay retention under 5 CFR part 536 when converted to their positions classified under the new system, if applicable.

All personnel laws, regulations, and guidelines not waived by this plan will remain in effect. Basic employee rights will be safeguarded, and Merit System Principles will be maintained.

• S&E Level V Employees

S&E Pay Band V Employees: An employee in Level V of the S&E occupational family will convert out of the demonstration project at the GS-15 level. Procedures will be documented in IOPs to ensure that employees entering Level V understand that if they leave the demonstration project and their adjusted base pay under the demonstration project exceeds the highest applicable GS-15, step 10 rate, there is no entitlement to retained pay. However, consistent with 79 FR 43722, July 28, 2014, pay retention may be provided, under criteria established by Mod Demo IOPs, to SSTM members who are impacted by a reduction in force, work realignment, or other planned management action that would necessitate moving the incumbent to a position in a lower pay band level within the STRL. Pay retention may also be provided under such criteria when an SES or ST employee is placed in a SSTM position as a result of reduction in force or other management action. SSTM positions not entitled to pay retention above the GS-15, step 10 rate will be deemed to be the rate for GS-15, step 10. For those Level V employees paid below the adjusted GS-15, step 10 rate, the converted rates will be set in accordance with the grade setting provisions.

V. Implementation Training

Critical to the success of the demonstration project is the training developed to promote understanding of the broad concepts and finer details needed to implement and successfully execute Mod Demo. Training will be tailored to address employee concerns and to encourage comprehensive understanding of the demonstration project. Training will be required both prior to implementation and at various times during the life of the demonstration project.

A training program will begin prior to implementation and will include modules tailored for employees, supervisors, and administrative staff. Typical modules are:

(1) An overview of the demonstration project personnel system,

(2) How employees are converted into and out of the system,

(3) Career paths and pay banding,

(4) The PFP system,

(5) Defining performance objectives,

(6) How to assign weights to performance elements,

(7) Assessing performance and giving feedback,

(8) New position descriptions,

(9) Demonstration project administration and formal evaluation.

Various types of training are being considered, including videos, video-teleconference tutorials, and train-the-trainer concepts. To the extent possible, materials developed by other STRLs will be utilized when appropriate to reduce implementation cost and to maintain consistency in application of similar procedures across laboratories.

VI. Project Maintenance and Changes

Many aspects of a Demonstration Project are experimental. Minor modifications to Mod Demo may be made from time to time as experience is gained, results are analyzed, and conclusions are reached on how the system is working. Flexibilities published in this FRN shall be available for use by all STRLs, if they wish to adopt them.

VII. Evaluation Plan

A. Overview

Title 5 U.S.C. chapter 47 requires that an evaluation be performed to measure the effectiveness of the demonstration project and its impact on improving public management. A comprehensive evaluation plan for the entire STRL demonstration program, originally covering 24 DoD laboratories, was developed by a joint OPM/DoD Evaluation Committee in 1995. This plan was submitted to the then-Office of Defense Research & Engineering and was subsequently approved. The main purpose of the evaluation is to determine whether the waivers granted result in a more effective personnel system and improvements in ultimate outcomes (i.e., organizational effectiveness, mission accomplishment, and customer satisfaction). That plan, while useful, is dated and does not fully afford the laboratories the ability to evaluate all aspects of the demonstration project in a way that fully facilitates assessment and effective modification based on actionable data. Therefore, in conducting the evaluation, AFC will ensure USD(R&E) evaluation requirements are met in addition to applying knowledge gained from other DoD laboratories and their evaluations to ensure a timely, useful evaluation of the demonstration project.

B. Evaluation Model

An evaluation model for the AFC STRL Mod Demo will identify elements critical to an evaluation of the effectiveness of the flexibilities. However, the main focus of the evaluation will be on intermediate outcomes, i.e., the results of specific personnel system changes which are expected to improve human resources management. The ultimate outcomes are defined as improved organizational effectiveness, mission accomplishment, and AFC customer satisfaction.

C. Method of Data Collection

Data from a variety of different sources will be used in the evaluation. Information from existing management information systems supplemented with perceptual survey data from employees will be used to assess variables related to effectiveness. Multiple methods provide more than one perspective on how the AFC STRL Mod Demo is working. Information gathered through one method will be used to validate information gathered through another. Confidence in the findings will increase as they are substantiated by the different collection methods. The following types of qualitative and/or quantitative data may be collected as part of the evaluation: (1) Workforce data; (2) personnel office data; (3) employee attitudes and feedback using surveys, structured interviews, and focus groups; (4) local activity histories; and/or, (5) core measures of laboratory effectiveness.

VIII. Demonstration Project Costs

A. Cost Discipline

An objective of the demonstration project is to ensure in-house cost discipline. A baseline will be established at the start of the project and labor expenditures will be tracked yearly. Implementation costs (including project development, automation costs, step buy-in costs, and evaluation costs) are considered one-time costs and will not be included in the cost discipline. The Personnel Management Board will track personnel cost changes and recommend adjustments if required to achieve the objective of cost discipline.

B. Developmental Costs

Costs associated with the development of the personnel demonstration project include software automation, training, and project evaluation. All funding will be provided through the organization's budget. The projected annual expenses are summarized in Figure 7. Project evaluation costs are not expected to continue beyond the first five years unless the results warrant further evaluation. Additional cost may be incurred as a part of the implementation and operation of the project.

IX. Required Waivers to Laws and Regulations

The following waivers and adaptations of certain 5 U.S.C. and 5 CFR provisions are required only to the extent that these statutory provisions limit or are inconsistent with the actions contemplated under this demonstration project. Nothing in this plan is intended to preclude the demonstration project from adopting or incorporating any law or regulation enacted, adopted, or amended after the effective date of this demonstration project.

A. Waivers to Title 5, United States Code

Chapter 5, section 552a: Records. Waived to the extent required to clarify that volunteers under the Voluntary Emeritus and Expert Program are considered employees of the Federal government for purposes of this section.

Chapter 31, section 3104: Employment of Specially Qualified Scientific and Professional Personnel. Waived to allow SSTM authority.

Chapter 31, section 3132: The Senior Executive Service: Definitions and exclusions. Waived as necessary to allow for the Level V SSTM authority of the S&E pay band.

Chapter 33, Subchapter I: Examination, Certification, and Appointment. Waived except for sections 3302, 3321, and 3328 to the extent necessary to allow direct hire authority for qualified candidates whose positions involve 51 percent or more of time spent in direct support of STRL activities, are identified by AFC STRL organizations as hard to fill, have a history of high turnover, or require unique, laboratory-related skillsets; and to the extent necessary to allow employees appointed on flexible-length and renewable-term appointments to apply for Federal positions as status candidates.

Chapter 33, section 3308: Competitive Service; Examinations; Educational Requirements Prohibited; Exceptions. Waived to the extent necessary to allow the qualification determination as described in 85 FR 78829 and this FRN.

Chapter 33, section 3317(a): Competitive Service; certification from registers. Waived insofar as “rule of three” is eliminated under the demonstration projects.

Chapter 33, section 3318(a): Competitive Service, selection from certificate. Waived to the extent necessary to eliminate the requirement for selection using the “Rule of Three” and other limitations on recruitment list.

Chapter 33, section 3321: Competitive Service; Probationary Period. This section is waived only to the extent necessary to replace “grade” with “pay band” and to allow for probationary periods of three years.

Chapter 33, section 3324-3325: Appointments to Scientific and Professional Positions. Waived in its entirety to fully allow for positions above GS-15 and allow SSTMs.

Chapter 33, section 3341: Waived in its entirety, to extend the time limits for details.

Chapter 35, section 3522: Agency VSIP Plans; Approval. Waived to remove the requirement to submit a plan to OPM prior to obligating any resources for voluntary separation incentive payments.

Chapter 35, section 3523(b)(3): Related to voluntary separation incentive payments. Waived to the extent necessary to utilize the authorities authorized in this FRN.

Chapter 41, section 4107(a)(1), (2), (b)(1), and (3): Pay for Degrees. Waived to the extent required to allow AFC to pay for all courses related to a degree program approved by the AFC STRL organizations.

Chapter 41, section 4108(a)-(c): Employee agreements; service after training. Waived to the extent necessary to require the employee to continue in the service of AFC for the period of the required service and to the extent necessary to permit the AFC STRL to waive in whole or in part a right of recovery.

Chapter 43, section 4301-4305: Related to performance appraisal. These sections are waived to the extent necessary to allow provisions of the performance management system as described in this FRN.

Chapter 51, section 5101-5112: Classification. Waived as necessary to allow for the demonstration project pay banding system.

Chapter 53, section 5301-5307: Related to Pay Comparability System, Special Pay Authority, and General Schedule Pay Rates. Waived to the extent necessary to allow demonstration project employees, including SSTM employees, to be treated as GS employees, and to allow base rates of pay under the demonstration project to be treated as scheduled rates of pay. SSTM pay will not exceed EX-IV and locality adjusted SSTM rates will not exceed E-III. Waived in its entirety to allow for staffing supplements.

Chapter 53, section 5331-5336: General Schedule Pay Rates. Waived in its entirety to allow for the demonstration project's pay banding system and pay provisions.

Chapter 53, section 5361-5366: Grade and pay retention. Waived to the extent necessary to allow pay retention provisions described in this FRN and to allow SSTMs to receive pay retention as described in 79 FR 43722.

Chapter 53, section 5379(a)(1)(A) and (b)(2): Student Loan Repayment. Waived to the extent necessary to define agency as STRL and to allow provisions of the student loan repayment authority as described in this FRN.

Chapter 55, section 5545(d): Hazardous duty differential. Waived to the extent necessary to allow demonstration project employees to be treated as GS employees. This waiver does not apply to employees in Level V of the S&E pay band.

Chapter 57, section 5753-5755: Recruitment and relocation, bonuses, retention allowances, and supervisory differentials. Waived to the extent necessary to allow: (a) employees and positions under the demonstration project to be treated as employees and positions under the GS, (b) employees in Level V of the S&E pay band to be treated as ST and/or GS employees as appropriate, (c) previsions of the retention counteroffer and incentives as described in this FRN, and (d) to allow SSTMs to receive supervisory pay differentials as described in 79 FR 43722.

Chapter 75, section 7501(1), 7511(a)(1)(A)(ii), and 7511(a)(1)(C)(ii): Adverse actions—definitions. Waived to the extent necessary to allow for up to a three-year probationary period and to permit termination during the extended probationary period without using adverse action procedures for those employees serving a probationary period under an initial appointment except for those with veterans' preference. Waived to the extent necessary to allow for two-year supervisory probationary periods and to permit re-assignment of supervisors during the probationary period without adverse action procedures for those employees serving in a supervisory probationary period.

Chapter 75, section 7512(3): Adverse actions. Waived to the extent necessary to replace “grade” with “pay band.”

Chapter 75, section 7512(4): Adverse actions. Waived to the extent necessary to provide that adverse action provisions do not apply to (1) reductions in pay due to the removal of a supervisory or team leader pay adjustment/differential upon voluntary movement to a non-supervisory or non-team leader position or (2) decreases in the amount of a supervisory or team leader pay adjustment/differential during the annual review process.

Chapter 99, section 9902(f): Related to Voluntary Separation Incentive Payments. Waived to the extent necessary to utilize the authorities in this FRN.

B. Waivers to Title 5, Code of Federal Regulations

Part 212, section 212.301: Competitive Status Defined. Waived to the extent necessary to allow individuals on flexible-length and renewable term appointments to be considered status candidates as defined in this FRN.

Part 300-330: Employment (General). Other than Subpart G of 300. Waived to the extent necessary to allow provisions of the direct hire authorities as described in 79 FR 43722, 82 FR 29280, and 85 FR 78829; direct hire authority for qualified candidates whose positions involve 51 percent or more of time spent in direct support of STRL activities, are identified by the STRLs as hard to fill, have a history of high turnover, or require unique, laboratory-related skillsets.

Part 300, section 300.601-300.605: Time-in-Grade Restrictions. Waived to eliminate time-in-grade restrictions in the demonstration project.

Part 315, section 315.201(b): Waived to the extent necessary to allow Flexible Length and Renewable Term Technical Appointments to be considered non-temporary employment for the purposes of determining creditable service toward career tenure.

Part 315, section 315.801(a), 315.801(b)(1), (c), and (e), and 315.802(a) and (b): Probationary period and length of probationary period. Waived to the extent necessary to (1) allow for up to a three-year probationary period and to permit termination during the extended probationary period without using adverse action procedures for those employees serving a probationary period under an initial appointment except for those with veterans' preference and (2) to the extent necessary to allow for supervisory probationary periods to permit reassignment during the supervisory probationary period without using adverse action procedures for employees serving a probationary period.

Part 315, section 315.803(b): Agency Action during probationary period (general). Waived to allow for termination during an extended probationary period without using adverse action procedures under subpart D of part 752, 5 U.S.C.

Part 315, section 315.804: Termination of probationers for unsatisfactory performance or conduct. Waived to the extent necessary to reduce a supervisor who fails to successfully complete a supervisory probationary period to a lower grade/pay band.

Part 315, section 315.805: Termination of Probationers for Conditions Arising before Appointment. Waived to the extent necessary to permit termination during the extended probationary period without using adverse procedures.

Part 315, section 315.901-315.909: Statutory requirement. Waived to the extent necessary to

(1) Replace “grade” with “pay band;”

(2) Establish a two-year supervisory probationary period; and

(3) Allow the movement of a newly hired supervisor who fails to meet requirements to a lower grade/pay band.

Part 316, section 316.301, 316.303, and 316.304: Term employment. Waived to the extent necessary to allow modified term appointments and FLRTTA as described in this FRN. Waived to the extent necessary to allow Flexible Length and Renewable Term Technical Appointments to count toward competitive status. Waived to allow a two-year trial period under the Flexible Length and Renewable Term Technical Appointment.

Part 330, section 330.103-330.105: Requirement for Vacancy Announcements. Waived to the extent necessary to allow an STRL to determine information to be published in a USAJobs flyer.

Part 332 and 335: Related to competitive examination and agency promotion programs. Waived to the extent necessary to:

(1) Allow employees appointed on a Flexible Length and Renewable Term Technical Appointment to apply for federal positions as status candidates;

(2) Allow no rating and ranking when there are 15 or fewer qualified applicants and no preference eligible candidates;

(3) Allow the hiring and appointment authorities as described in this FRN;

(4) Eliminate the “rule of three” requirement or other procedures to limit recruitment lists; and

(5) To extend the length of details and temporary promotions without requiring competitive procedures as described in 85 FR 78829 and this FRN.

Part 335, section 335.103: Agency Promotion Programs. Waived to the extent necessary to extend the length of details and temporary promotions without requiring competitive procedures or numerous short-term renewals.

Part 337, section 337.101(a): Rating applicants. Waived to the extent necessary to allow referral without rating when there are 15 or fewer qualified candidates and no qualified preference eligible candidates.

Part 338, section 338.301: Competitive Service Appointment. Waived to the extent necessary to allow demonstrated exceptional experience or a combination of experience and education in lieu of meeting OPM individual occupational qualification requirements for S&E positions as described in 85 FR 78829 and this FRN.

Part 340, Subparts A-C: Other than full-time career employment. These subparts are waived to the extent necessary to allow a Voluntary Emeritus Corps and Voluntary Expert Program.

Part 351, Subparts B, D, E, F, and G: Waived to the extent necessary to allow the provisions of RIF.

Part 359, section 359.705: Related to SES Pay. Waived to allow demonstration project rules governing pay retention to apply to a former SES or ST placed on an SSTM position or Level IV position.

Part 410, section 410.308(a-e): Training to obtain an academic degree. Waived to the extent necessary to allow provisions described in this FRN.

Part 410, section 410.309: Agreements to Continue in Service. Waived to the extent necessary to allow the AFC STRL organizations to determine requirements related to continued service agreements, including employees under the Student Educational Employment Program who have received tuition assistance.

Part 430, Subpart B: Performance appraisal for GS, prevailing rate, and certain other employees. Waived to the extent necessary to be consistent with the demonstration project's pay-for-performance system.

Part 432, section 432.102-432.106: Performance based reduction in grade and removal actions. Waived to the extent necessary to allow provisions described in the FRN.

Part 511: Classification under the general schedule. Waived to the extent necessary to allow classification provisions outlined in this FR, including the list of issues that are neither appealable nor reviewable, the assignment of series under the project plan to appropriate career paths; and to allow appeals to be decided by the AFC EDCG. If the employee is not satisfied with the AFC EDCG's response to the appeal, he/she may then appeal to the DoD appellate level.

Part 530, Subpart C: Special Rate Schedules for Recruitment and Retention. Waived in its entirety to allow for staffing supplements, if applicable.

Part 531, Subparts B, D, and E: Determining the Rate of Basic Pay. Waived to the extent necessary to allow for pay setting and pay-for-performance under the provisions of the demonstration project. Within-Grade Increases and Quality Step Increases. Waived in its entirety.

Part 531, Subpart F: Locality-based comparability payments. Waived to the extent necessary to allow (1) demonstration project employees, except employees in Level V of the S&E pay band, to be treated as GS employees; and (2) base rates of pay under the demonstration project to be treated as scheduled annual rates of pay.

Part 531, section 531.604: Determining an Employee's Locality Rate. Waived to the extent required to allow for routine or permanent telework employees to receive the higher of locality rates based on either their official worksite as documented on the SF 50 or the official duty site for AFC where the employee is employed from.

Part 536: Grade and pay retention. Waived to the extent necessary to

(1) Replace “grade” with “pay band;”

(2) Provide that pay retention provisions do not apply to conversions from GS special rates to demonstration project pay, as long as total pay is not reduced, and to reductions in pay due solely to the removal of a supervisory pay adjustment upon voluntarily leaving a supervisory position;

(3) Allow demonstration project employees to be treated as GS employees;

(4) Provide that pay retention provisions do not apply to movements to a lower pay band as a result of not receiving the general increase due to an annual performance rating of record of “Level 1;”

(5) Provide that an employee on pay retention whose rating of record is “Level 1” is not entitled to 50 percent of the amount of the increase in the maximum rate of base pay payable for the pay band of the employee's position;

(6) Ensure that for employees of Pay Band V in the S&E career path, pay retention provisions are modified so that no rate established under these provisions may exceed the rate of base pay for GS-15, step 10 (i.e., there is no entitlement to retained rate); and

(7) Provide that pay retention does not apply to reduction in base pay due solely to the reallocation of demonstration project pay rates in the implementation of a staffing supplement. This waiver applies to ST employees only if they move to a GS-equivalent position within the demonstration project under conditions that trigger entitlement to pay retention.

Part 536, section 536.306(a): Limitation on retained rates. Waived to the extent necessary to allow SSTMs to receive pay retention as described in 79 FR 43727.

Part 537: Repayment of Student Loans. Waived to the extent necessary to define agency as STRL and to allow provisions of the student loan repayment authority.

Part 550, section 550.902: Definitions. Waived to the extent necessary to allow demonstration project employees to be treated as GS employees. This waiver does not apply to employees in Level V of the S&E pay band.

Part 575, Subparts A-D: Recruitment incentives, relocation incentives, retention incentives, and supervisory differentials. Waived to the extent necessary to allow

(1) Employees and positions under the demonstration project covered by pay banding to be treated as employees and positions under the GS system,

(2) SSTMs to receive supervisory pay differentials as described in 73 FR 43727, and

(3) The Director to pay an offer up to 50 percent of basic pay of either a base pay and/or a cash payment to retain quality employees; and to the extent necessary to allow SSTMs to receive supervisory pay differentials. Criteria for retention determination and preparing written service agreements will be as prescribed in 5 U.S.C. 5754 and as waived herein.

Part 591, Subpart B: Cost-of-Living Allowances and Post Differential—Non-Foreign Areas. Waived to the extent necessary to allow demonstration project employees covered by broad banding to be treated as employees under the GS.

Part 752, section 752.101, 752.201, 752.301, and 752.401: Principal statutory requirements and coverage. Waived to the extent necessary to

(1) Allow for up to a three-year probationary period;

(2) Permit termination during the extended probationary period without using adverse action procedures for those employees serving a probationary period under an initial appointment except for those with veterans' preference;

(3) Allow for supervisory probationary periods and to permit reassignment during the supervisory probationary period without use of adverse action procedures for those employees serving a probationary period under a supervisory probationary period;

(4) Replace “grade” with “pay band;” and

(5) Provide that a reduction in pay band is not an adverse action if it results from the employee's rate of base pay being exceeded by the minimum rate of base pay for that pay band. Waived to the extent necessary to provide that adverse action provisions do not apply to (1) conversions from GS special rates to demonstration project pay, as long as total pay is not reduced, and (2) reductions in pay due to the removal of a supervisory or team leader pay adjustment/differential upon voluntary movement to a non-supervisory or non-team leader position or decreases in the amount of a supervisory or team leader pay adjustment based on the annual review.

Part 1400, section 1400.202(a)(2): Waivers and Exceptions to Pre-appointment Investigative Requirements.

(1) To the extent necessary, waive the pre-employment investigative requirements thereby enabling STRLs to make a final job offer and establish an EOD prior to a favorable eligibility determination at the Top Secret/SCI level.

(2) For positions designated as Top Secret/Special-Sensitive and Critical-Sensitive, apply the same waiver requirements for pre-appointment investigations IAW 5 CFR 1400.202(a)(2)(ii) for Critical-Sensitive positions with the following changes:

(a) An emergency or a national interest necessitating a pre-employment investigation waiver would include an STRL's inability to meet mission requirements.

(b) An agency or agency head would be defined as an STRL to allow for the provisions regarding security eligibility as described in 85 FR 78829.

BILLING CODE 6001-FR-P

Dated: February 16, 2024.
Aaron T. Siegel,
Alternate OSD Federal Register Liaison Officer, Department of Defense.

[FR Doc. 2024-03586 Filed 2-21-24; 8:45 am]

BILLING CODE 6001-FR-C